DEPARTMENT OF THE INTERIOR

Bureau of Land Management

43 CFR Part 2360

[A2407-014-004-065516; #O2412-014-004-047181.1]

RIN 1004-AF02

Rescission of the Management and Protection of the National Petroleum Reserve in Alaska Regulations, Issued May 7, 2024

AGENCY: Bureau of Land Management, Interior.

ACTION: Final rule.

SUMMARY: Through this final rule, the Bureau of Land Management (BLM) rescinds and replaces the “Management and Protection of the National Petroleum Reserve in Alaska” final rule, issued on May 7, 2024, to restore regulatory clarity and align BLM's implementing regulations with statutory requirements and national energy policy.

DATES: This final rule is effective on December 17, 2025.

FOR FURTHER INFORMATION CONTACT: Kyle W. Moorman, Chief, Division of Regulatory Affairs and Directives, telephone: 202-527-2433, email: kmoorman@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Executive Summary

II. NPR-A Background

III Need for the Final Rule

IV. Discussion of Public Comments on the Proposed Rule

V. Section-by-Section Analysis for Part 2360

VI. Procedural Matters

I. Executive Summary

The BLM's regulations governing the management of surface resources within the National Petroleum Reserve-Alaska (the Reserve or NPR-A) are located at 43 CFR part 2360. This final rule rescinds and replaces the final rule promulgated in 2024, entitled “Management and Protection of the National Petroleum Reserve in Alaska,” 89 FR 38712 (May 7, 2024) (2024 NPR-A Rule). The BLM has determined that the 2024 NPR-A Rule conflicts with and exceeds its statutory authority under the Naval Petroleum Reserves Production Act of 1976, Public Law 94-258 (90 Stat. 303; 42 U.S.C. 6501 et seq.) (NPRPA), as amended, undermines the purpose of that act, and is inconsistent with national energy policy. This final rule will facilitate the orderly administration of the public lands and will support the purposes of the NPRPA, including facilitating an expeditious program of competitive oil and gas leasing in the NPR-A. This deregulatory action supports the BLM's implementation of the statutorily mandated oil and gas program activities while providing for the appropriate level of protection for surface resources, including within special areas, without subverting other statutory requirements.

The BLM published the proposed rule to rescind the 2024 NPR-A Rule in the Federal Register on June 3, 2025 (90 FR 23507), followed by a 60-day comment period ending on August 4, 2025. The BLM received approximately 139,757 document submissions on www.regulations.gov, which entailed approximately 257,847 total comments from Tribes, Alaska Native Corporations, State and local governments, organizations, businesses, and individuals. The BLM identified 1,463 comment submissions that were unique and responsive to the request for comments, with the remaining submissions being either duplicative form letters, non-substantive, or outside the scope of the rule. The BLM analyzed those unique comment submissions and determined that 43 submissions provided substantive input and rationale on the proposed rule.

In addition to the public-comment period, the BLM invited federally recognized Tribes and Alaska Native Corporations to consult on this rulemaking process. On May 14, 2025, the BLM mailed invitation-to-consult letters to 33 Alaska native organizations in the region, including Alaska Native Tribes and Alaska Native Corporations. The BLM also emailed 26 of these letters on May 14, 2025, to those entities for whom we have email addresses. As a result of this outreach, the BLM scheduled and attended five requested consultation meetings, including: May 21, 2025—North Slope Borough; May 27, 2025—Utqiagvik Trilateral (City of Utqiagvik, Ukpeaġvik Iñupiat Corporation, Native Village of Barrow); May 29, 2025—Kuukpik Corporation; June 30, 2025—Arctic Slope Regional Corporation; and July 9, 2025—Iñupiat Community of the Arctic Slope.

The BLM received numerous substantive comments expressing support for rescinding the 2024 NPR-A Rule. Some comments agreed with the BLM's assessment that the 2024 NPR-A Rule exceeds the BLM's statutory authority under the NPRPA. Among those comments, some asserted that the 2024 NPR-A Rule contradicts congressional intent, particularly regarding oil and gas development in the NPR-A, and that certain provisions in the 2024 NPR-A Rule misinterpret or unlawfully expand the BLM's regulatory role, specifically for special areas. Additionally, some comments criticized the 2024 NPR-A Rule's new and revised definitions such as “significant resource value” and “special areas” as vague, overly broad, and circular.

Other comments supported the rescission given the 2024 NPR-A Rule's effect on oil and gas development, including hindering responsible development by imposing overly rigid restrictions—especially on infrastructure and commercial development; discouraging investment and creating regulatory uncertainty that could delay or prevent projects; and increasing the risk of regulatory takings. Some comments supported the rescission of the 2024 NPR-A Rule because they were concerned that it prioritized resource preservation at the expense of exploration and development.

Some comments supported the rescission of the 2024 NPR-A Rule because this final rule would more closely align the management of surface resources in the NPR-A with the national energy policy, including Executive Order (E.O.) 14153, while other comments considered the 2024 NPR-A Rule to be counterproductive to national energy security and Alaska's economic interests.

Finally, comments expressed concern that the 2024 NPR-A Rule lacked a meaningful economic analysis and suggested that returning to the previous rule—which had guided management of surface resources for many decades—would provide a stable and efficient regulatory framework to support long-term investment and development in the NPR-A.

In preparing this final rule, the BLM has reviewed, evaluated, and provided responses to the substantive comments received during the public comment period and through Tribal consultation. The responses are located in sections II, III, IV, V, and VI of this preamble. Where appropriate, the BLM made technical changes, corrections, and clarifications to the proposed rule. These changes are specifically noted in section V of this preamble.

II. NPR-A Background

Additional historical background information on the NPR-A can be found in the SUPPLEMENTARY INFORMATION section in Federal Register publication (90 FR 23507) dated June 3, 2025.

Naval Petroleum Reserves Production Act of 1976

Motivated by private industry's 1968 discovery of oil at Prudhoe Bay and the increasing price of oil due to the embargo that started in 1973, Congress passed the NPRPA in 1976. The NPRPA transferred administrative jurisdiction of the Reserve from the Secretary of the Navy to the Secretary of the Interior and redesignated the “Naval Petroleum Reserve Numbered 4, Alaska” as the “National Petroleum Reserve in Alaska.” At the time the NPRPA was enacted, the NPR-A remained largely unexplored and almost completely undeveloped (H.R. Rep. No. 94-156, at 3). Between 1974 and 1977, the Navy drilled seven test wells in the northeast corner of the NPR-A. These early explorations were significant undertakings that involved public funds, with a single test well costing the Federal Government approximately $100 million.

Congress recognized that accelerating exploration of the NPR-A was vital to the national interest to assess the amount and location of the potential oil and gas available in the NPR-A, particularly in light of the national need for energy independence. H.R. Rep. No. 94-81, at 8. Congress also acknowledged that the wildlife and other surface values in the NPR-A would have to be considered within the context that the NPR-A be managed for oil and gas exploration activities. Congress determined that the Secretary of the Interior is best qualified to make judgments regarding these other values. Id.

Congress provided certain directives within the NPRPA, including for the Secretary of the Interior to commence petroleum exploration within the NPR-A as soon as the administration of the NPR-A was transferred to the Interior Department. Congress further set forth the purpose that the development of the NPR-A be regulated in a manner consistent with the total energy needs of the Nation. The NPRPA established a management priority for oil and gas exploration activities within the NPR-A and, as a result, is considered a dominant-use statute.

Within that context, the NPRPA also authorized the Secretary to promulgate such rules and regulations necessary and appropriate for the protection of environmental, fish and wildlife, and historical or scenic values within the Reserve. Public Law 94-258, codified at 42 U.S.C. 6503(b). This provision provides the Secretary with discretion to protect surface resources within the Reserve but not in contravention of the overriding purpose of the NPRPA to provide for the energy needs of the Nation.

The NPRPA as originally enacted also directed the Secretary to assure the maximum protection of significant subsistence, recreational, fish and wildlife, or historical or scenic value within special areas, as determined by the Secretary, but only insofar as that protection is consistent with the requirements of the NPRPA for the exploration of the Reserve (42 U.S.C. 6504(a)). The BLM promulgated regulations soon after enactment of the NPRPA to govern management and protection of surface resources in the NPR-A that implement the direction in Act.

Department of the Interior Appropriations Act, Fiscal Year 1981

In 1979, the BLM completed a comprehensive “Study of the Reserve,” as required by the NPRPA. The study determined the best overall procedures to be used in the development, production, transportation, and distribution of petroleum reserves in the NPR-A, the alternatives to those procedures, and the environmental consequences. The BLM submitted the results of that study to Congress.

In response, Congress amended the NPRPA through the Department of the Interior Appropriations Act, Fiscal Year 1981, which directed the Secretary to conduct an expeditious program of competitive leasing of oil and gas in the NPR-A, while providing for such conditions, restrictions, and prohibitions as the Secretary deems appropriate to mitigate reasonably foreseeable and significantly adverse effects on the surface resources in the NPR-A (Pub. L. 96-514, tit. I, 94 Stat. 2957, 2964). The Fiscal Year 1981 Appropriations Act also exempted management of the NPR-A from two sections of the Federal Land Policy and Management Act of 1976, as amended (FLPMA): Section 202 (43 U.S.C. 1712), which requires the BLM to prepare resource management plans to guide management of public lands; and section 603 (43 U.S.C. 1782), which required the BLM to complete wilderness reviews and describes the procedures for managing any lands recommended to Congress for wilderness designation pending congressional action. Id.

In doing so, Congress explained that exempting the NPR-A from FLPMA sections 202 and 603 was necessary because both sections would otherwise inhibit expeditious leasing. See H.R. Rep. No. 96-1147, at 33 (1980). This legislative history gives further support to the position that the purpose of the NPRPA is primarily to facilitate oil and gas leasing and associated activities and that the direction to protect surface values, both within and outside special areas is a secondary purpose of the NPRPA. Finally, the 1981 Interior Appropriations Act amended the NPRPA and also clarified that the maximum protection standard for special areas also applies to production activities, to the extent consistent with the requirements of the NPRPA for exploration and production. Id.

Combined with the original direction in the NPRPA, the 1981 Interior Appropriations Act amendments emphasize that Congress intended to dedicate management of the NPR-A to the primary purpose of supporting an expeditious program of oil and gas activities in the NPR-A, while providing the Secretary with discretion to take into consideration the protection of surface resource values as appropriate and consistent with that overriding purpose. Id. Because Congress expressly dedicated management of the NPR-A to that dominant use, the BLM is not required to manage the area subject to multiple use and sustained yield. See 43 U.S.C. 1732(a).

Public Comments Received

Comment: A commenter urged the BLM to revoke its proposal to rescind the 2024 NPR-A Rule, stating that the proposal threatens to transform the NPR-A landscape “into an industrial oil field while unleashing more climate chaos and violates the BLM's legal obligations.” The commenter stated that under the NPRPA, Congress mandated the mitigation of “reasonably foreseeable and significantly adverse effects” on the NPR-A's surface resources from oil and gas activities and the maximum protection of sensitive habitat areas. Another commenter asserted that rescinding the 2024 NPR-A Rule would reverse critical environmental protections, removing a presumption against oil and gas development in approximately 13 million acres of special areas in contravention of statutory directive.

BLM Response: The NPRPA is a dominant-use statute in that it directs the BLM to manage the NPR-A primarily for oil and gas leasing, exploration, development, and production, and provides the BLM with discretion to determine the appropriate framework for protecting surface resources throughout the NPR-A. Further, the maximum protection of significant surface values within special areas, while required by the NPRPA, only applies to the extent consistent with the exploration and production requirements of the Act. This rule correctly reflects this statutory mandate. Provisions in the 2024 NPR-A Rule that would unnecessarily restrict the leasing, exploration, development, and production of oil and gas resources within the NPR-A are contrary to the congressional direction in the NPRPA to develop lands within the NPR-A, including special areas, as part of an expeditious oil and gas leasing program. For example, the presumption against oil and gas leasing and new infrastructure established in the 2024 NPR-A Rule flips BLM's statutory mandate on its head. Moreover, the 2024 NPR-A Rule, by enshrining the 2024 Integrated Activity Plan (IAP) maps in the regulatory text, when taken in tandem with this presumption against oil and gas leasing, effectively prohibited any oil and gas development in certain areas the BLM had already determined should be available for leasing and new infrastructure through the IAP process. Thus the 2024 NPR-A rule created a regulatory framework that would generally prohibit new leasing and new oil and gas infrastructure development in areas that the BLM had designated as open to leasing or available for new infrastructure just 2 years earlier, creates uncertainty for industry, and frustrates the congressional policy objective of expeditious oil and gas leasing, exploration, development, and production in the NPR-A. It is therefore contrary to the purposes and plain language of the NPRPA.

Other changes made by the 2024 NPR-A rule run contrary to Congress's mandate to conduct an expeditious oil and gas leasing program, including § 2361.30 and § 2361.40, which codified new processes, assessments, and analyses that could slow down BLM's administration of its program. Similarly, by adopting by rule the 2024 restrictions on existing special areas, the BLM would run into additional barriers when making any changes to the management of those areas, decreasing the speed and efficiency of its management of the reserve. As has been the standard since long before the 2024 NPR-A Rule, special area identification, including boundaries and management restrictions, are made through the IAP process and that evaluation process will be unaffected by this rule. The final rule returns the NPR-A to the intended focus of oil and gas exploration and development, but—like the 2024 NPR-A Rule—it is not self-executing, meaning that it does not itself make any substantive changes on the ground and will not restrict the BLM's discretion to take or authorize future on-the-ground actions. Instead, this rule provides the BLM with the appropriate level of discretion to consider future on-the-ground actions—through the IAP process or project-specific decision making to analyze and account for the impacts to surface resources—consistent with the resource protection provisions of the NPRPA. These management decisions, including which stipulations and required operating procedures are necessary to ensure proper protection of surface resources under the NPRPA (both within and outside special areas), are appropriately made through the IAP process, as well as project-specific decisions.

Comment: The commenter stated that the BLM failed to explain how its proposal to rescind the 2024 NPR-A Rule is permissible and justified under FLPMA. The commenter noted that while the NPR-A is exempt from FLPMA section 202's planning requirements, the BLM now appears to imply the NPR-A is exempted from all FLPMA mandates without providing support for such an assertion or its change in interpretation of the applicability of FLPMA to the NPR-A. A commenter also asserted that the final rule does not explain how it will ensure the BLM is meeting its FLPMA obligations in the NPR-A including to manage public lands “in a manner that will protect the quality of scientific, scenic, historical, ecological, environmental, air and atmospheric, water resource, and archeological values,” to “take any action necessary to prevent unnecessary or undue degradation of the lands,” as well as the provisions governing the issuance of rights-of-way. Another commenter opined that while the NPRPA exempted the NPR-A from FLPMA's planning requirements, it does not exempt the applicability of FLPMA's other provisions that allow reasonable impacts associated with oil and gas development.

BLM Response: The BLM does not claim that the NPR-A is entirely exempt from FLPMA. However, the Department of the Interior Appropriations Act, Fiscal Year 1981 Public Law 96-514, tit. I, 94 Stat. 2957, 2964 (1980) exempted management of the NPR-A from two sections of FLPMA: section 202 (43 U.S.C. 1712), which requires the BLM to prepare resource management plans to guide management of public lands; and section 603 (43 U.S.C. 1782), which requires the BLM to complete wilderness reviews and describes the procedures for managing any lands recommended to Congress for wilderness designation pending congressional action. In addition, the NPRPA is a dominant-use statute in that it directs the BLM to manage the NPR-A primarily for oil and gas development and provides the BLM with discretion to determine the appropriate framework for protecting surface resources throughout the NPR-A. Further, the maximum protection of significant surface values within special areas, while required by the NPRPA, only applies to the extent consistent with the exploration and production requirements of the Act. Congress has thus dedicated lands within the NPR-A to these specific uses, and under section 302(a) of FLPMA, 43 U.S.C. 1732(a), the BLM will manage these lands accordingly. This is why the IAP, which the BLM has long used to guide the management of the NPR-A, addresses a narrower range of uses than a FLPMA resource management plan and does not provide a framework for management under broader principles of multiple use and sustained yield. However, the BLM otherwise manages public lands within the NPR-A pursuant to FLPMA, where such management is consistent with the NPRPA, as amended. For example, the BLM applies its broad authority under FLPMA to regulate the use, occupancy, and development of public lands within the NPR-A and must take action to prevent unnecessary or undue degradation of the lands (43 U.S.C. 1732(b)) through the IAP, including oil and gas stipulations and required operating procedures. The BLM also has the discretion to apply additional mitigation measures, as appropriate, at the project approval stage. Finally, the BLM meets its FLPMA resource obligations, where consistent with the direction in the NPRPA, by applying other regulatory requirements within the NPR-A, such as 43 CFR 3162.5-1.

This final rule appropriately restores the regulatory framework with the primary statutory authority (NPRPA) for governing the NPR-A, recognizing that environmental protections are implemented consistent with that framework and other legal requirements, as applicable. Nevertheless, we have adjusted the final rule to clarify that, while the NPRPA provides the primary management direction for the NPR-A, other Federal land laws, including FLPMA, guide the BLM's management of these lands.

Comment: Commenters stated that the 2024 NPR-A Rule was consistent with the NPRPA, which a commenter asserted does not prioritize oil and gas activities over resource protection, and was necessary to protect the NPR-A from harmful impacts of oil and gas development. They referenced the NPRPA requirement to provide “maximum protection” of any designated “Special Area” containing significant subsistence, recreational, fish and wildlife, or historical or scenic value.

BLM Response: The BLM disagrees with the commenters' interpretation that the NPRPA places the same priority on resource protection that it does on providing for oil and gas activity in the NPR-A. As explained earlier, the NPRPA is a dominant-use statute that directs the BLM to manage the NPR-A primarily for oil and gas leasing, exploration, development, and production, and provides the BLM with discretion to determine the appropriate framework for protecting surface resources throughout the NPR-A. Further, the maximum protection of significant surface values within special areas, while required by the NPRPA, only applies to the extent consistent with the exploration and production requirements of the Act. This rule correctly reflects this statutory mandate. Provisions in the 2024 NPR-A Rule that would unnecessarily restrict the leasing, exploration, development, and production of oil and gas resources within the NPR-A are contrary to the congressional direction in the NPRPA to develop lands within the NPR-A, including special areas, as part of an expeditious oil and gas leasing program. The presumption against oil and gas leasing and new infrastructure established in the 2024 NPR-A Rule in tandem with the adoption by rulemaking of the 2022 IAP special area maps would effectively prohibit any oil and gas development in certain areas the BLM had already determined, through the IAP process, should be available for leasing and new infrastructure. Thus the 2024 NPR-A rule created a regulatory framework that flipped the purposes of the NPRPA on its head by generally prohibiting new leasing and new oil and gas infrastructure development in areas that the BLM had designated as open to leasing or available for new infrastructure just 2 years earlier creates uncertainty for industry and frustrates the congressional policy objective of expeditious oil and gas leasing, exploration, development, and production in the NPR-A. This restriction is therefore contrary to the purposes and plain language of the NPRPA. More detail on the statutory history of the NPR-A is provided in Section II Background of this preamble.

Comment: A commenter stated that, as part of finalizing the recission of the 2024 NPR-A Rule and reinstating the prior regulations from 1977, the BLM should clarify the scope of its “maximum protection” authority in the NPR-A. The commenter stated that the statute only applies to exploration activities in special areas, and then only “to the extent consistent with the requirements of this Act for the exploration of the reserve.” The commenter expressed that there is no textual basis for extending “maximum protection” to leasing or development activities, and that the preamble of the proposed rule misquoted the statute, incorrectly suggesting an independent directive to “assure the maximum protection” of special areas. Another commenter expressed that, in recognition of the NPR-A's extraordinary ecological, cultural, and scenic values, Congress recognized the need to manage the NPR-A differently from other public lands so that any activities which are or might be detrimental to such values will be carefully controlled. The commenter said that when Congress amended the NPRPA in 1980 to authorize an expeditious program of competitive leasing, it continued to emphasize the importance of the NPR-A's exceptional ecological and subsistence values.

BLM Response: The BLM agrees that the direction in the NPRPA to provide “maximum protection” applies only to significant surface values within special areas and such application is limited to the extent consistent with the exploration and production requirements of the Act. This final rule takes into account the provision in the Fiscal Year 1981 Interior Appropriations Act that amended the NPRPA to apply the “maximum protection” measures to both exploration and production of oil and gas production within Special Areas in the NPR-A, to the extent consistent with the requirements of the Act for those uses (Pub. L. 96-514, 94 Stat. 2964). As discussed earlier, the legislative history of that amendment supports the position that the NPRPA is a dominant-use statute, the purpose of which is primarily to facilitate oil and gas leasing and associated activities and the direction to protect surface values, both within and outside special areas, is a secondary purpose of the Act. See H.R. Rep. No. 96-1147, at 33 (1980). Provisions in the 2024 NPR-A Rule that would unnecessarily restrict the leasing, exploration, development, and production of oil and gas resources within the NPR-A are contrary to the congressional direction in the NPRPA to develop lands within the NPR-A, including special areas, as part of an expeditious oil and gas leasing program. This final rule rescinds provisions that were inconsistent with the NPRPA or beyond its authority. It clarifies that the Secretary may apply maximum protection measures in special areas of the NPR-A only when doing so is consistent with the requirements of the Act for exploration and production of oil and gas.

III. Need for the Final Rule

The preamble to the 2024 NPR-A Rule asserted that a new rule was needed to update the regulatory framework governing the management and protection of surface values and Special Areas within the Reserve because conditions throughout the Arctic had changed dramatically since the regulations governing the NPR-A were initially promulgated. Specifically, it claimed that a new rule was necessary because of the impacts of climate change on the Reserve's natural environment and Native communities. It also asserted that the prior regulations did not reflect the full management regime for the Reserve, and that consolidating management direction for the NPR-A that is otherwise found in statutes, regulations, plans, and other guidance documents would enhance consistency and certainty, particularly with respect to protection of surface resources and Special Areas. This “more cohesive framework” was predicated on a belief that the NPRPA gave BLM “three overarching mandates” of equal weight: “(1) conduct an oil and gas exploration, leasing and production program; (2) protect environmental, fish and wildlife, historical, and scenic surface resources from the impacts of that program through mitigation of reasonably foreseeable adverse effects; and (3) assure maximum protection for significant surface values from the impacts of the oil and gas program, including subsistence use, within Special Areas.”

Following a legal and policy review of the 2024 NPR-A Rule, the BLM determined that the 2024 NPR-A rule went beyond what is authorized under the NPRPA because it impermissibly imposed restrictions on oil and gas activities that exceed its statutory authority under the NPRPA. For example, by creating a framework for areas open to leasing and infrastructure predicated on the NPRPA containing “three overarching mandates” with equal weight, the 2024 NPR-A Rule elevated the protection of surface resources in a manner that runs afoul of the NPRPA's mandate to implement an expeditious program of competitive leasing. It also, contrary to its intended effect, increased public uncertainty for how the NPR-A would be managed, and created internal ambiguity about how to apply the rule, and internal procedural hurdles that would delay authorizations for activities within the NPR-A. Further, the rule did not require any specific mitigation measures nor did it, by itself, effectuate any changes to respond to changing conditions, to the extent they exist; by its own terms, those changes would need to be addressed in the IAP. Finally, the 2024 NPR-A Rule is inconsistent with the national energy priorities of this administration. Accordingly, and as explained further below, a rulemaking is necessary to establish the appropriate regulatory framework that aligns with the statutory directives for the activities and resources within the NPR-A and prioritizes energy development (as that statute requires).

The 2024 NPR-A Rule updated and expanded procedures for the BLM to mitigate reasonably foreseeable and significantly adverse effects of proposed oil and gas activities on the surface resources of the NPR-A; in particular, it elevated the maximum protection for surface values within special areas above the primary management purpose of supporting an expeditious oil and gas leasing program. Specifically, the rule required the BLM, in each decision concerning oil and gas activity in the NPR-A, to adopt measures to mitigate the reasonably foreseeable and significantly adverse effects on surface resources. The 2024 NPR-A Rule also codified five existing special areas and established a process for designating and de-designating Special Areas in the future. Id. In those special areas, the 2024 NPR-A Rule elevated the protection of significant resource values above the requirement of the BLM to manage the NPR-A for the exploration and development of oil and gas resources. In particular, the 2024 NPR-A Rule established a blanket presumption that proposed oil and gas activities should not be permitted in areas open to leasing and infrastructure unless specific information available to the authorized officer clearly demonstrates that those activities can be conducted with no or minimal adverse effects on significant resource values in areas that are allocated as available for future oil and gas leasing or new infrastructure.

While the NPRPA includes provisions that require protection of surface resources, including the maximum protection of significant resource values in special areas, the NPRPA is a dominant-use statute that is focused on the management of exploration and production of oil and gas in the NPR-A. Driven by the oil embargo imposed by the Organization of Petroleum Exporting Countries and energy crisis in the 1970s, Congress enacted the NPRPA to set aside the NPR-A as a petroleum reserve to help meet the Nation's total energy needs including the specific need for oil and gas and directed the Secretary to carry out an expeditious program of competitive leasing of oil and gas on BLM-administered lands within the NPR-A. While the NPRPA provides for maximum protection of significant surface values in special areas, it is clear from the text of the statute that Congress envisioned those areas may need such protection precisely because they could also be developed for oil and gas production.

Provisions in the 2024 NPR-A Rule that would unreasonably restrict the leasing, exploration, development, and production of oil and gas resources within the NPR-A are contrary to the plain text of and the congressional direction in the NPRPA to develop lands within the NPR-A, including special areas, as part of an expeditious oil and gas leasing program. The underlying directive in the 2024 NPR-A Rule to balance permitting oil and gas activities with the protection of surface resources—illustrated by the 2024 NPR-A Rule's articulation of the NPRPA as having three coequal mandates—is at odds with the directive in the NPRPA that the BLM undertake an expeditious program of competitive leasing of oil and gas and only apply maximum protection of significant subsistence, recreational, fish, and wildlife, or historic or scenic values to the extent consistent with the exploration and production requirements of the Act (42 U.S.C. 6504(a)). Similarly, the direction to mitigate reasonably foreseeable and significantly adverse effects on the surface resources (42 U.S.C. 6506a(b)) does not confer the authority not to lease, but rather to develop the restrictions the Secretary deems necessary and appropriate. In both cases, the NPRPA establishes a presumption for oil and gas activities, subject to the secondary purpose of protecting surface resources at the discretion of the Secretary.

The provisions at 43 CFR 2361.40(f) promulgated under the 2024 NPR-A Rule create an impermissible presumption that proposed oil and gas activities should not be permitted on lands within special areas that are allocated as available for future oil and gas leasing or new infrastructure unless there is evidence that clearly demonstrates that activities can be conducted with no or minimal adverse effects on significant resource values or unless they are necessary to comport with the terms of a valid existing lease. In doing so, § 2361.40(f) effectively prohibits any new oil and gas leasing and new infrastructure not required for existing leases in areas that the BLM already determined, through the 2022 IAP process, should be available for future oil and gas leasing and new infrastructure, contrary to the purposes of the NPRPA. This is made more egregious because § 2361.40(d) of the 2024 NPR-A Rule adopts by rule the 2022 IAP maps that identify portions of special areas as available for oil and gas leasing and new infrastructure, but then effectively prohibits these activities through the presumption in § 2361.40(f).

While the BLM is required to conduct an expeditious oil and gas leasing program in the NPR-A while protecting significant surface resources, it does so through the IAP process that seeks to balance those requirements. Provisions in the 2024 NPR-A Rule that would unnecessarily restrict the leasing, exploration, development, and production of oil and gas resources within the NPR-A are contrary to the congressional direction in the NPRPA to develop lands within the NPR-A, including special areas, as part of an expeditious oil and gas leasing program. As described above, the presumption against oil and gas leasing and new infrastructure established in the 2024 NPR-A Rule would effectively prohibit any oil and gas development in certain areas the BLM had already determined, through the IAP process, should be available for leasing and new infrastructure. Thus, the 2024 NPR-A rule created a regulatory framework that would generally prohibit new leasing and new oil and gas infrastructure development in areas that the BLM had designated as open to leasing or available for new infrastructure just 2 years earlier, creates uncertainty for industry, and frustrates the congressional policy objective of expeditious oil and gas leasing, exploration, development, and production in the NPR-A. This restriction is therefore contrary to the purposes and plain language of the NPRPA.

Further, the 2024 NPR-A Rule is not required by law and is unnecessary to effectively manage surface resources in the NPR-A. As such, it establishes bad policy that, via regulatory fiat, constrains the IAP process that the BLM has used for decades to determine appropriate management decisions, including which stipulations and required operating procedures are necessary to ensure proper protection of surface resources. The new provisions within the 2024 NPR-A Rule simply add additional, unnecessary processes that could complicate the BLM's ability to make timely decisions for protection of surface resources and for authorized uses within the NPR-A. For example, soon after the rule was issued, the BLM was required to complete a statement of adverse effect under 43 CFR 2361.40(g)(6) before approving the renewal of ConocoPhillips Alaska, Inc's (CPAI) annual environmental monitoring permit for 2024, part of the environmental monitoring and baseline studies in the required operating procedures for the 2022 NPR-A IAP ROD. The statement of adverse effect largely summarized information that had already been presented to the public and analyzed by the BLM the associated environmental reviews under the National Environmental Policy Act (NEPA), analysis under section 810 of the Alaska National Interest Lands Conservation Act (ANILCA), and consultation under the Endangered Species Act (ESA) and section 106 of the National Historic Preservation Act related to the approval of the project years earlier. This extra step delayed the BLM's renewal of CPAI's monitoring permit and impacted CPAI's ability to begin its seasonal monitoring on time. There are many such provisions in the 2024 NPR-A rule, explored in more detail below, that are not required by law, unnecessary, and run contrary to Congress's mandate to conduct an expeditious oil and gas leasing program by slowing down BLM's administration of its program. The 2024 NPR-A Rule is also inconsistent with the national energy priorities of the Trump administration. In January 2025, President Trump issued E.O. 14153 Unleashing Alaska's Extraordinary Resource Potential highlighting the need to unlock the abundant and largely untapped supply of energy resources within the State of Alaska to increase the prosperity of American citizens while helping to enhance our Nation's economic and national security for generations to come. To do so, the E.O. explains that it is imperative to immediately reverse the punitive restrictions implemented by the previous administration that specifically target resource development on both State and Federal lands in Alaska and specifically directs the rescission of the 2024 NPR-A Rule, consistent with applicable law. On the same day, the President also issued E.O. 14154, Unleashing American Energy and E.O. 14156 Declaring a National Energy Emergency, which directed Federal agencies to appropriately address the inadequate development of domestic energy resources to maintain the United States' prosperity and national security.

The 2024 NPR-A Rule created policy direction that was inconsistent with the authorizing statute as discussed above, which resulted in uncertainty for local communities and users of the NPR-A. By largely returning to the status quo that has provided the management framework for the NRP-A, this final rule provides predictability and transparency for the oil and gas program, which will lead to more efficient, effective, and responsible development within the NPR-A consistent with the national energy policy articulated above.

Finally, while the proposed rule was out for public comment, Congress once again provided guidance on how the BLM should approach oil and gas leasing in the NPR-A. Section 50105 of Public Law 119-21 directs the Secretary to expeditiously restore and resume oil and gas lease sales in the areas designated for oil and gas leasing in the 2020 IAP and under the terms and stipulations established in the 2020 IAP. Public Law 119-21, section 50105(b), 139 Stat. 72, 144 (2025). That section also requires that the Secretary conduct at least five lease sales of at least 4 million acres each before July 2035, with the first sale occurring by July 2026. Public Law 119-21, section 50105(c), 139 Stat. 72, 144 (2025). The direction in the rule makes clear the intention of Congress that the BLM proceed with an expeditious program of oil and gas leasing in the NPR-A that is not unreasonably restricted by administrative and procedural hurdles put in place to unnecessarily delay or prohibit oil and gas activities in the NPR-A, contrary to the direction in the NPRPA. Further, the statutory requirement that the BLM offer leases at least five times in the next 10 years is predicated on offering leases in the areas designated as open for oil and gas leasing in the 2020 NPR-A IAP and under the associated terms and conditions thein, which includes some areas that would otherwise be subject to the presumption against leasing in the 2024 NPR-A Rule.

Consistent with the direction from the President and Congress, the BLM's policy is to efficiently and effectively maximize the development and production of the natural resources located on Federal lands within Alaska, including the NPR-A, to meet the Nation's total energy needs, consistent with statutory requirements. Therefore, we are rescinding the 2024 NPR-A Rule in full, returning the regulations in 43 CFR part 2360 to their original language as published in the rule promulgated in 1977 (42 FR 28721, June 3, 1977), with limited technical changes, corrections, and clarifications to the regulations under this final rule.

Public Comments Received

Comment: A commenter stated that the BLM promulgated the 2024 NPR-A Rule to update the regulatory framework governing the management and protection of environmental, fish and wildlife, and other surface resources in the NPR-A, and that the 2024 NPR-A Rule is necessary to protect surface resources. In opposition to rescinding the 2024 NPR-A Rule, a commenter stated that the 2024 NPR-A Rule elevates conservation on par with extractive uses, which effectively allows for vital bird habitat such as wetlands, grasslands, and riparian corridors to be safeguarded from degradation and industrialization. The commenter stated that rescinding the 2024 NPR-A Rule would reduce habitat protections for dozens of avian species. A commenter stated that the 2024 NPR-A Rule was a step in the right direction toward ensuring necessary protections for resources and values of the NPR-A, and that rescinding the 2024 NPR-A Rule would make it harder for the BLM to meet its legal obligations to provide maximum protection for significant resources.

BLM Response: The BLM agrees that the 2024 NPR-A Rule updated the regulatory framework for protecting surface resources in the NPR-A in a manner that elevates conservation on par with extractive uses. However, this is precisely why the 2024 NPR-A rule is contrary to the purposes and plain language of the NPRPA, as amended. That statute makes clear that Congress intended that the NPR-A be managed primarily for oil and gas activities and that the Secretary has discretion to determine the appropriate framework for protecting surface resources throughout the NPR-A. Further, the maximum protection of significant surface values within special areas, while required by the NPRPA, only applies to the extent consistent with the exploration and production requirements of the Act.

Further, recission of the rule, by itself, will not affect the BLM's ability to provide appropriate protection for surface resources, including maximum protection for significant surface values within special areas, to the extent consistent with the exploration and production requirements of the Act. This final rule is not self-executing, meaning that it does not, by itself, make any substantive changes on the ground and will not restrict the BLM's discretion to make future decisions. Rather, this rule provides the BLM with the appropriate level of discretion to consider future on-the-ground actions—through the IAP process or project-specific decision making to analyze and account for the impacts to surface values and subsistence activities—consistent with the resource protection provisions of the NPRPA. These management decisions, including which lease stipulations and required operating procedures are necessary to ensure proper protection of surface resources and to ensure maximum protection of significant resource values in special areas to the extent consistent with the exploration and production requirements of the Act, will be made through future, separate processes.

Comment: A commenter disputed the existence of a “national energy emergency,” stating that E.O. 14156 misrepresents the current domestic energy situation and is countered by the current Administration's own assertion that oil production is declining due to low oil prices globally. One of the commenters said that in the absence of any increased demand for fossil fuel extraction, there is no rationale for the proposed rule. The commenter indicated that domestic energy production is at an all-time high with the United States being a net energy exporter since 2019. They stated that U.S. companies have indicated they will not increase output in response to the emergency declaration because it is not economical to do so. In addition, the commenter said that the E.O. fails to satisfy the Department of the Interior's (DOI) definition of an emergency, which it describes as “a sudden, urgent, usually unexpected occurrence or occasion requiring immediate action,” or “an unforeseen combination of circumstances or the resulting state that calls for immediate action.” A commenter stated that the BLM's justifications for rescinding the 2024 NPR-A Rule are unfounded, saying that E.O. 14156 did not premise its declaration of emergency on any threat to human health, loss of significant property, or other immediate, unforeseen economic hardship, making the declaration invalid. Additionally, an individual commenter stated that the E.O.s do not supersede the NPRPA and the National Environmental Policy Act (NEPA), which Congress passed and the President signed. The commenter stated that any specification in an E.O. that conflicts with the NPRPA or NEPA must yield to the provisions in the NPRPA or NEPA. An individual commenter said that the current rulemaking prioritizes E.O.s that emphasize resource extraction at the expense of statutory obligations, and they cannot lawfully supplant explicit congressional mandates. The commenter said that declaring an emergency in this context undermines the integrity of the rule of law and sets a dangerous precedent for executive overreach.

BLM Response: In January 2025, President Trump issued E.O. 14153, Unleashing Alaska's Extraordinary Resource Potential, articulating that it is the policy of the United States to take action, through the Department of the Interior, to unlock the abundant and largely untapped supply of energy resources within the State of Alaska to increase the prosperity of American citizens and enhance our Nation's economic and national security for generations to come. The E.O. explains that it is imperative to immediately reverse the punitive restrictions implemented by the previous administration that specifically target resource development on both State and Federal lands in Alaska and specifically directs the rescission of the 2024 NPR-A Rule consistent with applicable law. This final rule implements that policy direction. Further, we have identified that doing so will address inconsistencies between the 2024 NPR-A Rule and congressional direction in the NPRPA that undermine the legal sufficiency of the BLM's administration of the NPR-A, the 2024 NPR-A Rule is not required by law and is unnecessary to effectively manage surface resources in the NPR-A.

The decision to rescind the 2024 NPR-A Rule is not based solely on the emergency declaration in E.O. 14156 Declaring a National Energy Emergency. Rather, this final rule reflects a broader policy shift toward enhancing energy reliability and economic resilience by maximizing the use of existing authorities. The BLM's action is grounded in a reevaluation of statutory obligations, national energy needs, and administrative priorities.

Further, E.O. 14156 was issued pursuant to the President's constitutional and statutory authorities. The E.O. identifies several factors including geopolitical threats, regulatory inefficiencies, and infrastructure constraints, that collectively impair the Nation's ability to ensure a reliable and affordable energy supply. These factors constitute a national emergency as defined by the relevant legal framework, even if they do not reflect the DOI's definition of an “emergency” used in other contexts.

While it is true that the United States remains a net energy exporter and domestic production is historically high, energy security encompasses more than output levels, especially when considering long-term energy security. E.O. 14156 recognizes that while the United States has made significant strides in energy production, new and emerging pressures—both domestic and global—threaten the reliability, affordability, and resilience of the Nation's energy systems. Notably, traditional risks such as geopolitical instability and supply chain vulnerabilities remain relevant. However, the energy landscape is also being reshaped by rapid technological change and surging demand from emerging sectors. For example: electricity consumption by U.S. data centers is projected to rise from 147 Terawatt-hours (TWh) in 2023 to 606 TWh by 2030, representing nearly 12 percent of total U.S. electricity demand, largely due to the growth of artificial intelligence, cloud computing, and digital infrastructure (McKinsey 2024). The E.O. responds to this anticipated demand surge and the need for resilient infrastructure and diversified supply chains.

Nevertheless, even if factors identified in E.O. 14156 as constituting a national emergency no longer existed, the need to rescind the rule and return to the previous regulatory framework would remain unchanged. The national energy policy as articulated in E.O. 14153 and E.O. 14154, and the need to bring the regulations into conformance with the plain language of the NPRPA, would continue to counsel in favor of a recission of the 2024 Final Rule and a return to the previous regulatory framework management of surface resources within the NPR-A.

Comment: A commenter stated that in the proposed rule the BLM failed to justify rescission of the 2024 NPR-A Rule in violation of the APA. The commenter indicated that the BLM's stated rationale that the 2024 NPR-A Rule “conflicts with and exceeds the BLM's statutory authority,” “undermines the purposes” of the NPRPA, and “is inconsistent with National energy policy” is unsupported and often unexplained. The commenter stated that the BLM failed to explain its disregard for prior factual findings and its change in position in violation of the APA. The commenter indicated that when the BLM adopted the 2024 NPR-A Rule, the Agency was clear that its purpose was to aid in effective management of surface resources and ensure compliance with legal mandates by developing “a more cohesive framework” for implementing its mandates. The commenter expressed that the BLM now claims the 2024 NPR-A Rule is “unnecessary to effectively manage surface resources” but provides no explanation for this statement, failing to explain why or how the 2024 NPR-A Rule is unnecessary or complicates the BLM's management of the NPR-A. An individual commenter said that the proposed rule is arbitrary and capricious under the APA because it lacks sufficient justification based on statutory and regulatory principles established under the NPRPA, fails to provide a rational basis, disregards critical public input, and undervalues significant surface resources. The commenter stated that the current proposal does not provide sufficient scientific or factual evidence to refute or meaningfully question the earlier findings; it merely references unspecified comments alleging underestimated economic impacts without detailing how concerns outweigh documented environmental and subsistence protections. They stated that the proposed rule wrongly claims that the 2024 NPR-A Rule imposes unnecessary procedural burdens, yet it fails to substantively demonstrate how these purported burdens outweigh the established benefits to surface resources and ecological values, or how reverting to regulations originally promulgated in 1977 better serves contemporary management goals. The commenter said that reverting to regulations developed five decades ago without comprehensive reevaluation under contemporary conditions is both arbitrary and lacks a rational basis.

BLM Response: The BLM is changing policy direction to be consistent with national energy policy, in particular E.O. 14153 Unleashing Alaska's Extraordinary Resource Potential, E.O. 14154 Unleashing American Energy, and E.O. 14192, Unleashing Prosperity Through Deregulation, and to ensure that the regulation is consistent with the plain language of the NPRPA. Further, while the 2024 NPR-A Rule did not explicitly make factual findings, any findings that may have been made in the previous rule have not been disregarded in this final rule, and this final rule has not made any new or superseding factual findings. As explained above, the purpose of the final rule is to rescind the 2024 NPR-A Rule because the BLM has determined that rule conflicts with the authorizing statute, is unnecessary to comply with the NPRPA and other applicable Federal laws, unnecessarily constrains the BLM's discretion for management of the NPR-A, and is inconsistent with the national energy priorities of this administration.

The 2024 NPR-A Rule fundamentally upended the BLM's management of the NPR-A by distorting the statutory mandate under the NPRPA. The statute's dominant purpose is that of oil and gas exploration and development and includes a subordinate clause to implement appropriate safeguards for environmental protection. However, while the 2024 NPR-A Rule may appear to support development, it operationally prioritizes preservation over development as the default, thereby subordinating the NPRPA's core mandate for the Secretary to authorize oil and gas leasing, exploration, development, and production with appropriate safeguards, as he determines appropriate.

Therefore, rather than implementing NPRPA's mandate to manage the NRP-A primarily for oil and gas exploration and development, and ensuring maximum protection of surface resources to the extent consistent with that dominant use, the 2024 NPR-A Rule inappropriately reoriented the framework to subordinate development to protection—noting that the NPR-A has three coequal mandates—and thereby failing to give full effect to the Act's core purpose.

The NPRPA is a dominant-use statute that directs the BLM to manage the NPR-A primarily for oil and gas leasing, exploration, development, and production. Under the NPRPA, the BLM must adhere to several specific directives. First, BLM must undertake an expeditious program of competitive leasing of oil and gas in the NPR-A (42 U.S.C. 6506a(a)). Within that context, exploration and development activities within special areas must be conducted in a manner which will ensure the maximum protection of significant subsistence, recreational, fish and wildlife, or historical or scenic values to the extent consistent with the requirements of the Act for exploration and production (42 U.S.C. 6504(a); 6506(n)(2)). While the NPRPA requires the BLM to apply “maximum protection” for significant surface values within special areas, that management objective is limited by the primary statutory directive to expeditiously pursue an oil and gas leasing program and to authorize exploration of, and production from, the reserve. Finally, the NPRPA directs the Secretary of the Interior to provide for such conditions, restrictions, and prohibitions as deemed necessary or appropriate to mitigate reasonably foreseeable and significantly adverse effects on the surface resources of the NPR-A (42 U.S.C. 6506a(b)). However, this final direction does not include discretion not to lease but rather gives the Secretary discretion to develop restrictions necessary to mitigate adverse impacts on the NPR-A as are appropriate. By establishing a regulatory framework that would generally prohibit new leasing and new oil and gas infrastructure development in areas that the BLM had designated as open to leasing or available for new infrastructure just 2 years earlier the 2024 NPR-A Rule effectively nullifies existing management decisions, creates uncertainty for industry and frustrates the congressional policy objective of expeditious oil and gas leasing, exploration, development, and production in the NPR-A. And as explained above and below in more detail, this framework is contrary to the purposes and plain language of the NPRPA.

IV. General Discussion of Public Comments on the Proposed Rule

This section of the preamble briefly summarizes broad and general comments on the proposed rule and the BLM's responses. Comment responses within this section of the preamble have been grouped and summarized by category that would apply to one or more sections of this final rule. You will find additional comments that are more specific to sections of this final rule, and their responses, in Section V. Section-by-Section Discussion of this preamble.

Comments on Public Comment Period

Comment: An individual commenter stated that the BLM has already rescinded three documents that enable the 2024 NPR-A Rule, indicating its disregard for any dissenting input.

BLM Response: Though the commentor did not provide any detail on what three rescinded documents they were referring to, they are likely referencing the rescission of the Federal Register notice request for information (RFI) titled “special areas within the National Petroleum Reserve in Alaska” that published in the Federal Register in July 2024 (89 FR 58181); a report titled “Maximizing Protection in the National Petroleum Reserve—Alaska” published in January 2025 (BLM Report); and a BLM memorandum entitled “BLM Interim Management of Special Areas within the National Petroleum Reserve—Alaska” published in January 2025 (Interim Measures Guidance). To clarify, these documents were issued at the very end of the previous administration as a last-minute attempt to implement some portion of the 2024 NPR-A Rule. They were issued as a result of the rule and did not enable the 2024 NPR-A Rule. Nothing in the 2024 NPR-A Rule limited the BLM's authority to rescind those policies, nor was there any requirement in that regulation for any public engagement for that process.

Further, E.O. 14153 specifically directed the Department to rescind the RFI published in the Federal Register on July 17, 2024 (89 FR 58181), and to rescind the BLM's guidance on the protection of subsistence resource values in the existing special areas and proposed new and modified special areas in the NPR-A that were issued on January 16, 2025. On July 30, 2025, the BLM published a notice in the Federal Register implementing that direction and providing the BLM's rationale for rescinding those documents (90 FR 35916). One of the reasons that the BLM highlighted in the Federal Register notice for the recission was that the BLM Report did not evaluate and respond to the many public comments received that opposed the expansion of special areas, opposed the addition of new significant resource values, or generally opposed any change in management or protections in the NPR-A. This lack of consideration for dissenting input did not comply with the requirement in 43 CFR 2361.30(b)(3) to evaluate and respond to public input on changes or additions to special areas. Not giving due consideration to opposing viewpoints called into question the BLM's determinations in the BLM Report and the Interim Measures Guidance.

Comments on Climate Change

Comment: Commenters opposed the proposed rule and expressed concern for potential climate change impacts that they assert could be exacerbated by rescinding the 2024 NPR-A Rule. Commenters stated that the need to maintain protections for the NPR-A is strengthened by the intensity and rate of impacts that climate change is having on the Arctic, which they state is warming at four times the rate of the rest of the world. The commenters mentioned that threats to food security are increasing (especially for populations that rely on subsistence lifestyles), animal migration patterns and abundance are shifting, and there are numerous unpredictable conditions such as thawing permafrost, coastal erosion, and melting sea ice that are already having serious repercussions on the communities, lands, and animals of the Arctic. The commenters said that the NPR-A's globally significant habitat for polar bears, caribou, migratory birds, and numerous other species are already being impacted by climate change and could be further adversely impacted by oil and gas development and infrastructure. One of the commenters expressed that the 2024 NPR-A Rule was a step toward climate responsibility by providing a vehicle for the BLM to consider cumulative greenhouse gas (GHG) emissions in making decisions, while the BLM's proposed rule is likely to worsen these adverse climate effects by opening up substantial new areas of the NPR-A for oil and gas development and increasing GHG emissions.

BLM Response: This final rule restores the legally appropriate management framework within the NPR-A to the purpose for which it was designated in the NPRPA. Specifically, the regulatory framework will allow the BLM to support an expeditious program of oil and gas exploration and development that also provides for the protection of surface resources consistent with the requirements of the NPRPA. However, this rule is not self-executing and provides the BLM the discretion to appropriately consider future on-the-ground actions, through the separate IAP process, consistent with the NPRPA and other laws, pursuant to the applicable decision-making framework for the Bureau. This final rule does not change the agency's requirements to analyze and account for the impacts to surface resources and subsistence activities, whether from a project or as part of the analysis for an IAP, under NEPA, section 810 of ANILCA, or section 7 of the ESA. Management decisions, including which stipulations and required operating procedures are necessary to ensure proper protection of surface resources and consideration of special areas, are made through the IAP process. The 2024 NPR-A Rule introduced unnecessary procedural complexity that conflicts with the NPRPA's statutory framework and impedes the BLM's ability to carry out its responsibilities—namely, to ensure the timely leasing, exploration, development, and production of oil and gas resources in the NPR-A while also protecting surface resources and accommodating other authorized uses. Further, neither the 2024 NPR-A Rule nor this final rule have any bearing on how the BLM will consider GHG emissions for decisions it makes in the NPR-A. Any potential effects on GHG emissions that could occur from this rule are too broad, speculative, or conjectural to lend themselves to meaningful analysis at this time. Rather, these effects would, to the extent required by law, be analyzed in a NEPA analysis, supporting IAP or in site-specific project approval decisions. These analyses will continue to follow the requirements of applicable law and regulations as appropriate based on the decision to be made.

Comment: A commenter said that North Slope development presents several environmental advantages. The commenter described the North Slope oil and gas development as having lower GHG intensity than conventional onshore development. The commenter stated that projects like Santos' Pikka possess a GHG intensity of 14 tCO2e/mboe, much lower than the industry average of 46 tCO2e/mboe, and the onshore industry average of 30 tCO2e/mboe.

BLM Response: This final rule is not self-executing, meaning that it does not itself make any substantive changes on the ground and will not restrict the BLM's discretion to take or authorize future on-the-ground actions. The BLM acknowledges the information provided by the commentor, but this final rule does not regulate GHG levels related to oil and gas development. However, the final rule provides for the BLM's discretion to appropriately consider future on-the-ground actions consistent with the NPRPA and other laws, pursuant to the applicable decision-making framework for the Bureau.

Comments on Special Areas

Comment: Commenters stated that the 2024 NPR-A Rule provides necessary protections for special areas within the NPR-A, including the Teshekpuk Lake Special Area, Colville River Special Area, and Utukok River Uplands Special Area. The commenters stated that the protections for these special areas are based on the best available science, the importance of these areas to the region's fish, wildlife, and other renewable resource values, and that these protections are consistent with the BLM's obligation to provide maximum protection for special areas based on their significant subsistence, recreational, fish and wildlife, historical, and scenic values. An individual commenter said that the special-area restrictions of the 2024 NPR-A Rule are consistent with the NPRPA. Another commenter said that without the 2024 NPR-A Rule, there could be industrial sprawl in areas such as the Teshekpuk Lake Special Area or the Colville River Special Area, which are vital to wildlife and subsistence users.

BLM Response: This final rule has no effect on the BLM's ability to designate special areas or to provide maximum protection for the significant surface values found therein, to the extent consistent with the exploration and production requirements of the Act. Further, this final rule does not itself change any of the protections for existing special areas that were put in place by the 2022 IAP. If the BLM changes any of those protections, the BLM will rely on a process to make changes to the relevant decisions in the IAP—a process that is separate and independent of this rule. Designation of special areas where significant surface values exist in NPR-A is a fact-based inventory determination based on the best available information during preparation of an IAP. As such, the special area boundaries that result are not areas set aside specifically for non-development, but simply a recognition of where certain management prescriptions may be necessary to accomplish “maximum protection” of those surface values, while allowing development to occur. Note that this process, not the process detailed in the 2024 NPR-A Rule, is the process by which the boundaries of all current special areas were designated.

The NPRPA is a dominant-use statute that directs the BLM to manage the NPR-A primarily for oil and gas leasing, exploration, development, and production, and provides the BLM with discretion to determine the appropriate framework for protecting surface resources throughout the NPR-A. Further, the maximum protection of significant surface values within special areas, while required by the NPRPA, only applies to the extent consistent with the exploration and production requirements of the Act. While the NPRPA provides for maximum protection of significant surface values in special areas, it is clear from the text of the statute and its legislative history that Congress envisioned special areas may need such protection precisely because they have significant surface values and could be subject to exploration for and production of oil and gas. The maximum protection, however, is limited by statute to the extent that such is consistent with the requirements of the NPRPA for the exploration for and production of oil and gas resources in the NPR-A. This rule correctly reflects this statutory mandate.

Provisions in the 2024 NPR-A Rule that would unnecessarily restrict the leasing, exploration, development, and production of oil and gas resources within the NPR-A are contrary to the congressional direction in the NPRPA to develop lands within the NPR-A, including special areas, as part of an expeditious oil and gas leasing program. As has been the standard since long before the 2024 NPR-A Rule, special area designation, including boundaries and management restrictions, are made through the IAP process, which is separate and independent from this rule.

Further, protection of surface values within special areas is not limited to those protections provided in the rule, the IAP, or other Secretarial decisions relating to the establishment of special areas. For example, polar bears are protected by the Marine Mammal Protection Act, 16 U.S.C. 1361 et seq., and the ESA, 16 U.S.C. 1531 et seq., and nesting birds and raptors are protected by the Migratory Bird Treaty Act, 16 U.S.C. 703 et seq.

Finally, the 2024 NPR-A Rule incorrectly asserted that the NPRPA codified the boundaries of the Utukok River special area and the Teshekpuk Lake special area such that they could not be reduced without an act of Congress (89 FR 38712, 38736) (June 6, 2024). That incorrect assertion was based on an unreasonable interpretation of language in section 104(b) of the NPRPA, codified at 43 U.S.C 6504(a), that provides that any exploration within the Utukok River, the Teshekpuk Lake areas, and other areas designated by the Secretary of the Interior containing any significant subsistence, recreational, fish and wildlife, or historical or scenic value, shall be conducted in a manner which will assure the maximum protection of such surface values to the extent consistent with the requirements of this Act for the exploration of the reserve.

There is nothing in that provision of the NPRPA that explicitly codifies the boundaries of those special areas. In fact, the boundaries of the Utukok River special area and the Teshekpuk Lake special area were not defined at the time of enactment, but rather, were later established by the Secretary in 1977 (42 FR 28723). Further, the boundaries for both the Utukok River special area and the Teshekpuk Lake special area have been modified in the ensuing decades to add more lands to the boundaries (64 FR 167470). Therefore, the BLM's novel interpretation of section 104(b) of the NPRPA in the 2024 NPR-A Rule was unreasonable based on both the plain language of the law and the BLM's prior long-standing interpretation of the language which has supported the modification of the boundaries for the Utukok River special area and the Teshekpuk Lake special area. As such, that unreasonable interpretation, which created unnecessary management constraints, is reversed by this final rule.

Comment: A commenter expressed support for the 2024 NPR-A Rule that codifies that special areas (like the Teshekpuk Lake Special Area) must be managed for maximum protection of their significant values, including fish habitat. The commenter said that they cannot afford to lose these commitments. The commenter stated that the 2024 NPR-A Rule requires the BLM to prepare a statement of adverse effect when proposed oil activity would harm a special area, describing the values at stake, nature of harm, avoidance measures considered, and required mitigation. The commenter expressed that this process is valuable because it acknowledges impacts on subsistence and culture, provides Indigenous communities formal input, and increases transparency and accountability in agency decisions. The commenter said that rescinding the 2024 NPR-A Rule means the BLM would no longer have to do a public accounting of harms to special areas. The commenter stated that rescission of the 2024 NPR-A Rule would make it more difficult for the BLM to fulfill its mandate to protect significant subsistence resources under the NPRPA. The commenter referenced the BLM's determination that subsistence is a Significant Resource Value (SRV) in all existing special areas and in lands proposed for protection, and noted that under section 6504(a) of the NPRPA, the BLM must “assure the maximum protection” of the subsistence SRV across those landscapes. The commenter emphasized that once the BLM identifies a value as “significant,” the NPRPA leaves the Agency no discretion to ignore it, and maximum-protection measures are mandatory.

BLM Response: The NPRPA is a dominant-use statute that directs the BLM to manage the NPR-A primarily for oil and gas leasing, exploration, development, and production, and provides the BLM with discretion to determine the appropriate framework for protecting surface resources throughout the NPR-A. Further, this rule restores the standard that the maximum protection of significant surface values within special areas, while required by the NPRPA, only applies to the extent consistent with the exploration and production requirements of the Act. This rule correctly reflects this statutory mandate.

This final rule will not affect the BLM's ability to identify special areas or to provide maximum protection for the significant resource values found therein, consistent with the requirements of the NPRPA. The BLM will continue to follow the process it has used for decades regarding special area identification, including boundaries and management restrictions, taking public comment, and designation, if appropriate through the separate IAP process. The identification of “special” areas where significant values exist in NPR-A is a fact-based inventory determination based on the best available information during preparation of an IAP. As such, the special area boundaries that result are not areas set aside specifically for non-development but simply a recognition of where certain management prescriptions may be necessary to accomplish “maximum protection” of those surface values, while allowing development to occur. Note that this process, not the process detailed in the 2024 NPR-A Rule, is the process by which the boundaries of all current special areas were designated.

Further, the 2024 NPR-A Rule is not required by law, creates uncertainty for uses of the NPR-A, conflicts with the national energy policy, and is unnecessary to effectively manage surface resources therein. The 2024 NPR-A Rule interferes with the IAP process that the BLM has used for decades to determine appropriate management decisions, including which stipulations and required operating procedures are necessary to ensure proper protection of surface resources. The 2024 NPR-A Rule added unnecessary procedures that complicate the BLM's ability to make timely decisions for protection of surface resources and for authorized uses within the NPR-A. For example, soon after the rule was issued, the BLM was required to complete a statement of adverse effect under 43 CFR 2361.40(g)(6) before approving the renewal of CPAI's annual environmental monitoring permit for 2024, part of the environmental monitoring and baseline studies in the required operating procedures for the 2022 NPR-A IAP ROD. The statement of adverse effect largely summarized information that had already been presented to the public and analyzed by the BLM in previously completed NEPA analysis, ANILCA section 810 analysis, and ESA consultation related to the approval of the project years earlier. This extra step delayed the BLM's renewal of CPAI's monitoring permit and impacted CPAI's ability to begin its seasonal monitoring on time.

Finally, with regard to subsistence as a significant resource value, the NPRPA itself provides that oil and gas activities must be conducted in a manner that ensures maximum protection of significant subsistence values (among others) within special areas, consistent with the requirements of the Act to provide for an expeditious program of oil and gas leasing. This final rule is consistent with that directive and identifies subsistence as one of the values for which maximum protection measures shall be taken within special areas, but consistent with the language in the NPRPA, such measures only apply to the extent consistent with the exploration and production requirements of the Act.

Comment: A commenter stated that the BLM has ignored regional geology and evidence of where hydrocarbon entrapment for oil is most likely to occur in the NPR-A when creating preferred alternatives and stipulations. The commenter described how the Barrow Arch geological feature extends from Utqiagvik to Point Thomson and has been the focal point for hydrocarbon migration resulting in giant oilfield accumulations. The commenter expressed that the highly prospective Nanushuk-Torok Play Fairway extends from recently discovered giant oilfields northwestward along the southern flank of the Barrow Arch to the Chukchi Sea, but the expanded Teshekpuk Lake Special Area has designated this entire region as “unavailable for leasing,” ignoring the geological science. The commenter requested that restrictions covering the region south of Teshekpuk Lake and the South Coast of Smith Bay be reconsidered and reopened to exploration and development.

BLM Response: This final rule rescinds the 2024 NPR-A Rule; however, that does not change the special area boundaries. The designation or de-designation of special areas or revision of the boundaries or management provisions are decisions that are historically determined through the IAP process—which is distinct and separate from this rulemaking—and includes its own public input and environmental analysis requirements.

Comments on Protection of Surface Resources

Comment: A commenter said that the NPR-A is home to extraordinary complexes of lakes, ponds, and other waterways teeming with fish, and a myriad of other irreplaceable resources. The commenter said that it would be disastrous for the region to repeal the 2024 NPR-A Rule, which the commenter asserted ensures responsible management of the Western Arctic. Similarly, a commenter stated that the NPR-A's rivers, lakes, and coastal waters sustain their rich fisheries as well as waterfowl and marine mammals that are part of their subsistence. They expressed concern about increased industrial activity due to the proposed rule, such as excessive water withdrawal for ice roads and drilling, can lower the water levels in lakes and streams, potentially leading to these water bodies no longer being deep enough for fish to overwinter, killing the fish, or forcing them to relocate.

BLM Response: The final rule is not self-executing, meaning that it does not itself make any substantive changes on the ground and will not restrict the BLM's discretion to undertake or authorize future on-the-ground actions. This final rule provides the BLM with discretion to appropriately consider future on-the-ground actions, consistent with the NPRPA and other laws, pursuant to the applicable decision-making framework for the Bureau. The final rule will continue to ensure the protection of surface resources within the NPR-A, to the extent consistent with carrying out the congressionally directed prioritization of oil and gas leasing, exploration, development, and production. The BLM would consider and address impacts to surface resources within the NPR-A during the IAP process or project-level decisions. As an example, the BLM would analyze the condition of surface resources, including changing ecological conditions or specific surface resources when determining when or how to update the IAP.

Comment: Commenters mentioned that the NPR-A is crucial for the Western Arctic Caribou Herd's calving habitat and provides critical denning habitat for threatened polar bears, which are sensitive to the disturbance, displacement, and mortality that would occur from expanded oil development. Additionally, commenters noted that the NPR-A contains seven Audubon of Alaska Important Bird Areas, with six designated for global importance due to waterbird and raptor concentration areas. Commenters also stated that the Teshekpuk Lake Special Area provides critical nesting, molting, and breeding habitat for birds, while the Kasegaluk Lagoon Special Area boasts the highest abundance and diversity of bird life in all of the Arctic Alaska coastal lagoons and serves as a migration area for as much as half of the Pacific Brant population. Commenters asserted that oil and gas activities in the NPR-A would not only destroy and fragment essential wildlife habitat for polar bears, migratory birds, caribou, and other species but also threaten nesting, molting, and breeding habitat and changes to nesting site availability.

BLM Response: The final rule is not self-executing, meaning that it does not itself make any substantive changes on the ground and will not restrict the BLM's discretion to take or authorize future on-the-ground actions. Instead, the final rule provides the BLM with discretion to appropriately consider future on-the-ground actions, consistent with the NPRPA and other laws, pursuant to the applicable decision-making framework for the Bureau. The rule will continue to ensure the protection of surface resources within the NPR-A, to the extent consistent with carrying out the congressionally directed prioritization of oil and gas leasing, exploration, development, and production. Management decisions, including which stipulations and required operating procedures are necessary to ensure proper protection of surface resources are appropriately made through the IAP process, as well as project-specific decisions.

Additionally, the protections for surface values in the NPR-A are not limited to those protections in the IAP. For example, polar bears are protected by the Marine Mammal Protection Act, 16 U.S.C. 1361 et seq., and the ESA, 16 U.S.C. 1531 et seq., and nesting birds and raptors are protected by the Migratory Bird Treaty Act, 16 U.S.C. 703 et seq.

Comments on Wildlife and Subsistence Resources

Comment: Several commenters described the NPR-A as a region with incomparable wildlife and ecology, home to three caribou herds, threatened polar bears, fish, and millions of globally significant migratory birds. The commenters said that its treasured wildlife and wilderness are central to the subsistence livelihood of Indigenous communities and to the Nation's conservation heritage. A commenter mentioned that birds from all four North American flyways migrate to the NPR-A, including Brants from the Pacific Flyway, Tundra Swans from the Atlantic Flyway, White-fronted Geese from the Mississippi Flyway, and Pintails from the Central Flyway. Commenters mentioned that rescinding the 2024 NPR-A Rule would reduce habitat protections for dozens of avian species dependent on the ecologically intact lands of the NPR-A managed by the BLM. A commenter stated that migratory birds have important economic value for the States that they migrate to and from. The commenter said that oil and gas development in the NPR-A will increase bird mortality which will result in economic loss.

BLM Response: We acknowledge the comments highlighting the ecological importance of the NPR-A, including its role as habitat for migratory birds, caribou herds, polar bears, and other wildlife, as well as its significance to subsistence communities. However, this final rule is not self-executing, meaning that it does not itself make any substantive changes on the ground and will not restrict the BLM's discretion to take or authorize future on-the-ground actions. Instead, this final rule provides for the BLM's discretion to appropriately consider future on-the-ground actions, consistent with the NPRPA and other laws, pursuant to the applicable decision-making framework for the Bureau. As directed by the NPRPA, this final rule will continue to ensure the protection of surface resources within the NPR-A, to the extent consistent with carrying out the congressionally directed prioritization of oil and gas leasing, exploration, development, and production. Under this final rule, management decisions, including which stipulations and required operating procedures are necessary to ensure proper protection of surface resources, will be appropriately made through the IAP process, as well as project-specific decisions.

Additionally, the protections for surface values in the NPR-A are not limited to those protections in the IAP. For example, migratory birds are protected by the Migratory Bird Treaty Act of 1918, 16 U.S.C. 703-712.

While migratory birds are undoubtedly valuable to many communities, the assertion that this final rule would cause economic harm is based on a series of assumptions that go well beyond what is supported by evidence. It assumes that this final rule by itself and without intervening actions, will lead to more development, that such development will significantly harm bird populations, and that this harm will be large enough to affect economies in other States. Each of these steps is uncertain, and together they make the argument speculative and conjectural. Given the multiple procedural steps required before any new areas within the NPR-A can be leased or developed—including planning, public engagement, tribal consultation, environmental review, NHPA section 106 consultation, ESA section 7 consultation, ANILCA section 810 processes, and permitting—combined with the vast size of the NPR-A, the limited footprint of potential development, and the subsequent site-specific environmental analysis, with any resulting associated protection measures, there is no credible basis to assert that this rule change would result in measurable economic loss stemming from impacts on migratory birds. Although the concerns raised are important and could be addressed through appropriate future analyses, they are not directly relevant to the scope or function of this rulemaking.

Comment: Commenters discussed the importance of the NPR-A and said that it is not just land to them—it is their home, and the source of their food, water, and spiritual sustenance. One of the commenters mentioned that the 2024 NPR-A Rule took steps toward recognizing that protecting subsistence means protecting people, not just animals in isolation. Commenters stated that the 2024 NPR-A Rule is necessary to protect and maintain access to long-standing subsistence activities in and around the NPR-A by establishing a process for designating, de-designating, and changing boundaries of lands in special areas containing subsistence values and directs the BLM to seek opportunities to engage federally recognized Tribes in co-stewardship of special areas and subsistence resources. A commenter stated that the 2024 NPR-A Rule is necessary to protect and maintain access to long-standing subsistence activities in and around the NPR-A.

BLM Response: We acknowledge the comment expressing interest in maintaining and protecting subsistence activities within the NPR-A, among other important uses. This final rule does not change the agency's requirements to analyze and account for the impacts to subsistence activities under ANILCA section 810 whether from a project-level decision making process or as part of the analysis for an IAP. Management decisions, including which stipulations and required operating procedures are necessary to ensure proper protection of surface resources and consideration of special areas, are made through the IAP process and associated ANILCA section 810 analysis. The 2024 NPR-A Rule inappropriately added unnecessary procedural complexity intended to generally preclude development in special areas rather than regulate development in a manner that ensures maximum protection of subsistence and other significant surface values to the extent consistent with the exploration and production requirements of the Act, which is inconsistent with the statutory framework of the NPRPA. As a result, the 2024 NPR-A Rule unreasonably restricted the BLM's ability to fulfill its statutory responsibilities under the NPRPA and further the rule is inconsistent with the national energy policy.

As an example, before approving the renewal of ConocoPhillips Alaska, Inc's (CPAI) annual environmental monitoring permit for 2024—part of the environmental monitoring and baseline studies in the required operating procedures for the 2022 NPR-A IAP ROD—the 2024 NPR-A Rule mandated that the BLM complete a statement of adverse effect that largely summarized information that was already presented to the public in previously completed NEPA analysis, ANILCA section 810 analysis, and ESA consultation. This extra step delayed the BLM's renewal of CPAI's monitoring permit and impacted CPAI's ability to begin its seasonal monitoring on time. Rescinding the 2024 NPR-A Rule removes this unnecessary requirement.

Comment: Commenters stated that the BLM is required to comply with ANILCA section 810, which recognizes that subsistence uses are an important public interest and provides procedural and substantive requirements to consider and protect subsistence uses in agency decision-making processes. Another commenter stated that repealing the 2024 NPR-A Rule would “dismantle that procedural scaffold,” making it easier for future applications for permit to drill, rights-of-way, or IAP amendments to proceed without adequate analysis, directly undermining ANILCA's purpose. A commenter stated that the BLM's proposal would substantially reduce the protections for subsistence resources, use, and access, which would adversely affect subsistence uses and users. Therefore, the commenter said that the BLM must fully comply with the procedures required under ANILCA section 810, including conducting hearings to ensure it minimizes adverse effects on the impacts to subsistence.

BLM Response: This final rule does not change the agency's requirements to analyze and account for the impacts to subsistence activities under ANILCA section 810 whether from a project or as part of the analysis for an IAP. Management decisions, including which stipulations and required operating procedures are necessary to ensure proper protection of surface resources and consideration of special areas, are made through the IAP process and associated ANILCA section 810 analysis.

In addition, this final rule—like the 2024 NPR-A Rule—is not self-executing, meaning that it does not itself make any substantive changes on the ground, and does not make any decisions for surface resources or projects within the NPR-A. Because this final rule does not involve decisions regarding the tangible use, occupancy, or disposition of public lands, section 810 of ANILCA does not apply. The final rule provides for the BLM's discretion to appropriately consider future on-the-ground actions, consistent with the NPRPA and other laws—including ANILCA, pursuant to the applicable decision-making framework for the Bureau. This final rule will continue to ensure the protection of surface resources within the NPR-A, to the extent consistent with carrying out the congressionally directed prioritization of oil and gas leasing, exploration, development, and production. Management decisions, including which stipulations and required operating procedures are necessary to ensure proper protection of surface resources, are appropriately made through the IAP process, as well as project-specific decisions.

Comments on Oil & Gas Production

Comment: Commenters stated that oil development in and around their community has already caused significant harm to their physical health, food security, and cultural practices. They described several specific impacts they believe have resulted from that development, including: caribou deflection and habitat fragmentation, fish habitat loss and water pollution, and food contamination. Further, the commenter described the decline in air quality in Nuiqsut due to oil development, stating that community members now live with frequent exposure to industrial air emissions from gas flaring, diesel engines, dust, and leaks. The commenter mentioned that hazardous air pollutants released by nearby operations pose serious health risks, including cancer, respiratory illnesses, heart problems, and developmental disorders.

BLM Response: This final rule is not self-executing, meaning that it does not itself make any substantive changes on the ground and will not restrict the BLM's discretion to take or authorize future on-the-ground actions. Instead, this rule provides the BLM with the appropriate level of discretion to consider future on-the-ground actions—through the IAP process or project-specific decision making to analyze and account for the impacts to surface values and subsistence activities—consistent with the resource protection provisions of the NPRPA. These management decisions, including which stipulations and required operating procedures are necessary to ensure proper protection of surface values under the NPRPA (both within and outside special areas), are appropriately made through the IAP process, as well as project-specific decisions.

Nothing in the 2024 NPR-A Rule recission changes the statutory requirements to analyze and account for the impacts to subsistence resources or access under ANILCA section 810 whether from a project or as part of the analysis for an IAP. Management decisions, including which stipulations and required operating procedures are necessary to ensure proper protection of surface resources and consideration of special areas, are made through the IAP process and associated ANILCA section 810 analysis.

The BLM would consider and address impacts to surface resources within the NPR-A during the IAP process or project-level decisions on proposals considered subsequent to this rule. As an example, the BLM could analyze the condition of surface resources, including changing ecological conditions or impacts to specific surface resources as appropriate when determining when or how to update the IAP.

Comment: A commenter expressed concern that repealing the 2024 NPR-A Rule would mean reopening millions of acres of undisturbed public land to oil and gas drilling, which could bring environmental harm such as seismic blasting, oil spills, gas leaks, habitat destruction, and contamination of water and soil. A commenter stated that oil and gas activities have already resulted and will result in significant adverse effects (including carbon pollution) that will compound if new development activities expand on the ConocoPhillips Willow Project in the NPR-A. ConocoPhillips has submitted applications to the BLM seeking to explore additional reservoirs within the project area.

BLM Response: The final rule is not self-executing, meaning that it does not itself make any substantive changes on the ground and will not restrict the BLM's discretion to take or authorize future on-the-ground actions. Rather, this rule provides the BLM with the appropriate level of discretion to consider future on-the-ground actions—through the IAP process or project-specific decision making to analyze and account for the impacts to surface values and subsistence activities—consistent with the resource protection provisions of the NPRPA. The final rule will continue to ensure the protection of surface values within the NPR-A while providing for a competitive oil and gas program. Future proposals for oil and gas activity in the NPR-A will be subject to the requirements of the NPRPA, must comply with the management provisions of the applicable IAP, and will be presented to the public for input and evaluated by the BLM to the extent required by NEPA, ANILCA section 810, section 106 of the NHPA, and ESA section 7 as part of the decision making process.

Comments on Economic Effects

Comment: Commenters stated that the 2024 NPR-A Rule would have devastating economic effects on local communities, the State of Alaska, and industry by restricting development opportunities and leaseholder rights. The commenters expressed that the 2024 NPR-A Rule failed to properly account for the economic role that responsible oil and gas development plays in sustaining North Slope governance and self-determination. The commenters mentioned that the North Slope Borough relies on property taxes from infrastructure associated with NPR-A projects, including pipelines, roads, and well pads to fund essential services, and the 2024 NPR-A Rule would diminish the Borough's future tax base, threatening its delivery of clean water, education, sanitation, public safety, and housing to its citizens. A commenter mentioned that 50 percent of all sales, rentals, bonuses, and royalties on NPR-A leases are paid to the State of Alaska for public facilities and services. The commenter noted that in 2021, the State of Alaska awarded local communities over $10 million through grants from funds received from leases in the NPR-A, and these economic impacts were not fully considered in the 2024 NPR-A Rule's economic analysis.

BLM Response: The 2024 NPR-A Rule and associated economic analysis characterized the regulatory changes as primarily clarifying in nature and concluded that the rule would not result in significant economic impacts. At that time, the BLM received approximately 89,254 document submissions on www.regulations.gov which entailed approximately 239,565 total comments on the 2024 NPR-A Rule proposal, including many from industry representatives, Tribes, and the State of Alaska. A substantial number of these comments raised concerns that the economic impacts of the rule may have been materially underestimated. These comments raised questions about the adequacy of the original economic analysis, particularly regarding the potential effects on local economies, tax revenues, and community services in the North Slope region. Regarding effects from this final rule, the BLM anticipates the rescission of regulatory red-tape will remove internal procedural hurdles which will, at a minimum, restore the regulatory status quo and provide a management framework for the NPR-A relative to surface resource protection, to the extent consistent with exploration and development, that has been in place for nearly the entire period of oil and gas development and production in the NPR-A. In doing so, the regulations will provide increased certainty and predictability for the State of Alaska, users in the NPR-A, potentially affected ANCSA Corporations, local governments and federally recognized Tribes. The BLM anticipates that the perception of market conditions and confidence will return to baseline, leading to pass-through indirect economic benefits realized by agency efficiency and improved predictability.

Comment: A commenter stated that the 2024 NPR-A Rule creates a maze of new substantive and procedural requirements applicable to all areas of the NPR-A, establishing strict impediments to development outside special areas and effectively prohibiting future development within special areas by presuming that such development should not be allowed. The commenter also stated that the complexity of the 2024 NPR-A Rule and the bias against production undermine the conditions necessary for a successful oil and gas leasing program, such as regulatory clarity, predictability, and limited exposure to subsequent litigation. A commenter who holds nearly a million acres of leases within the NPR-A expressed concerns about impacts to existing leases, specifically that development of and access to existing leases may be restricted, delayed, or denied as an outcome of the 2024 NPR-A Rule. The commenter mentioned that the BLM had suspended their leases in the NPR-A due to impacts of the 2024 NPR-A Rule and subsequently released the suspension upon the announcement that the 2024 NPR-A Rule was to be rescinded. A commenter said they have spent considerable time and money investing in their leases and are ready to re-commence exploration drilling subject to the rescinding of the 2024 NPR-A Rule, which they stated effectively prohibits any economic path forward to further development. The commenter expressed concern that the “maximum protection” provisions of the 2024 NPR-A Rule, especially the presumption against permitting oil and gas infrastructure in special areas, create a high bar for any new oil and gas development. The commenter also stated that since the resumption of leasing in the NPR-A during 1999, the oil and gas industry has witnessed a steady decline in the availability of prospective NPR-A acreage for exploration and development due to the expansion of special areas and implementation of more onerous BLM stipulations. The commenter expressed that exploration drilling and seismic acquisition in the NPR-A is very expensive, and without reasonable certainty that development can proceed after a significant oil discovery, the cost and excessive stipulations have become prohibitive to investment.

BLM Response: The 2024 NPR-A Rule and associated economic analysis characterized the regulatory changes as primarily clarifying in nature and concluded that the rule would not result in significant economic impacts. At that time, the BLM received approximately 89,254 document submissions on www.regulations.gov which entailed approximately 239,565 total comments, including many from industry representatives, Tribes, and the State of Alaska. A number of these comments raised concerns that the economic impacts of the rule may have been materially underestimated. Under this final rule, the BLM has re-evaluated the 2024 NPR-A Rule and taken a closer look at the public input received. These comments raise questions about the adequacy of the original economic analysis, particularly regarding the potential effects on local economies, tax revenues, and community services in the North Slope region.

Based on comments received and subsequent decisions by industry to suspend leases in the NPR-A, it is clear that the additional regulatory requirements introduced by the 2024 NPR-A Rule contributed to a perception of uncertainty and reduced opportunities for exploration and development within the NPR-A. While the agency cannot determine or verify the extent to which these perceptions influenced investment or development decisions, it recognizes the potential for such perceptions to affect market behavior. With the rescission of the duplicative and unnecessary procedural requirements under the 2024 NPR-A Rule, the BLM will reduce internal regulatory burdens and restore the NPR-A's management framework to one that provides for surface resource protection while prioritizing leasing, exploration, development, and production, consistent with applicable laws. This restoration is expected to improve regulatory clarity and predictability, which may help return market confidence to baseline levels.

In response to one specific comment, the BLM clarifies here that there were five oil and gas companies that requested a voluntary suspension of their leases within the NPR-A while the 2024 NPR-A Rule was being analyzed. At each company's request, the BLM approved a suspension. Subsequently, three of those companies requested a continued voluntary suspension prior to the expiration of their first. All five companies have current suspensions in place.

Comment: A commenter criticized the BLM for failing to evaluate the economic costs and environmental damage from increased GHG emissions in its Draft Economic Analysis. The commenter stated that the BLM's analysis never mentioned GHG emissions or climate change, only noting that increased flexibility for oil and gas management could lead to relative increases in revenues but possible negative impacts on climate and habitat. The commenter referenced court decisions rejecting agency refusals to properly quantify the costs of GHG emissions, including estimating the social cost of carbon, and stated that the BLM must analyze and disclose the actual climate effects caused by GHG emissions. The commenter also stated that the BLM failed to account for the loss of access to subsistence resources and adverse effects on ecosystem services in the NPR-A. An advocacy organization stated that drilling in the Arctic poses significant economic risks, as it is one of the most expensive regions for oil and gas production due to its harsh climate, geographic remoteness, and limited infrastructure. The commenter said that recent lease sales have failed to attract oil company bids, reflecting skepticism about the region's financial viability. Additionally, the commenter said the fiscal watchdogs and congressional budget analysts have highlighted a track record of economic failure for Arctic oil ventures, noting that the most recent Federal lease sale yielded no revenue and increased the U.S. deficit by $1 billion.

BLM Response: As described in other responses to comments, this final rule does not, by itself, make any substantive, on-the-ground changes or take or authorize future on-the-ground actions. Instead, this final rule provides the BLM with discretion to consider future on-the-ground actions—through the IAP process or project-specific decision making to analyze and account for the impacts to surface values and subsistence activities—consistent with the resource protection provisions of the NPRPA. These management decisions, including which stipulations and required operating procedures are necessary to ensure proper protection of surface resources under the NPRPA (both within and outside special areas), are appropriately made through the IAP process, as well as project-specific decisions. Therefore, the BLM is not analyzing or specifically considering under NEPA the climate impacts of oil and gas development as part of this rulemaking process. The environmental effects of GHG emissions that may result from any changes to oil and gas consumption that may be influenced by the production of oil and gas from the NPR-A are separate in time and place from this rulemaking. Cf. Seven County Infrastructure Coalition v. Eagle County, 145 S. Ct. 1497 (2025). Such downstream emissions that could occur as a result of future projects would not occur as a direct result of this rulemaking and would be analyzed by future programmatic or project-specific decision-making processes. Further, given the multiple procedural steps required before any new areas within the NPR-A could be leased or developed—including planning, public engagement, tribal consultation, environmental review, NHPA section 106 consultation, Endangered Species Act section 7 consultation, ANILCA section 810 processes, and permitting—combined with the vast size of the NPR-A, the limited footprint of potential development, and the subsequent site-specific environmental analysis, with any resulting associated protection measures, there is no requirement to prepare an environmental analysis of an action arising from an entirely separate and speculative project (or projects) that is well downstream of this rulemaking under NEPA.

Comment: A commenter expressed support for the BLM's proposal to rescind the 2024 NPR-A Rule, stating it would help eliminate roadblocks established under the Biden Administration and reverse lost job and private investment opportunities. The commenter stated that future oil and gas production in the NPR-A is vital to Alaska's economic health, the State's residents, and the Nation's energy independence and security. A commenter stated that the rescission supports an approach allowing responsible energy development while maintaining necessary environmental safeguards under existing frameworks such as the 2020 NPR-A IAP. The commenter expressed that communities closest to the land can continue to benefit from jobs, infrastructure, and revenue derived from resource development in the NPR-A. A commenter described Alaska's energy challenges, particularly the declining gas supplies in Cook Inlet that threaten energy stability and affordability for most Alaskans. The commenter expressed that North Slope oil and gas development could address this energy gap by providing cheaper gas for Alaskans. The commenter stated that regulatory certainty for North Slope development would allow conventional oil plays to yield decades of production while providing jobs and economic activities to nearby Native villages. The commenter also stated that the U.S. Geological Survey (USGS) increased its estimate to more than 14 billion barrels of recoverable oil underlying Federal lands on the North Slope in June 2025, along with 104 trillion cubic feet of natural gas. Based on its experience and knowledge, the commenter estimated that the NPR-A could hold over 20 billion barrels of recoverable oil. The commenter expressed that neither the 2022 NPR-A IAP Record of Decision nor the 2024 NPR-A Rule's economic analysis appropriately accounted for the likely recoverable oil within the NPR-A.

BLM Response: The 2024 NPR-A Rule and associated economic analysis characterized the regulatory changes as primarily clarifying in nature and concluded that the rule would not result in significant economic impacts. At that time, the BLM received approximately 89,254 document submissions on www.regulations.gov which entailed approximately 239,565 total comments, including many from industry representatives, Tribes, and the State of Alaska. A number of these comments raised concerns that the economic impacts of the rule may have been materially underestimated. Under this rule, the BLM re-evaluated the 2024 NPR-A Rule and took a closer look at the public input received. These comments raised questions about the adequacy of the original economic analysis, particularly regarding the potential effects on local economies, tax revenues, and community services in the North Slope region. In considering 2025 Final Rule, the BLM anticipates the rescission of regulatory red-tape will remove internal procedural hurdles which will, at a minimum, restore the regulatory management framework for the NPR-A relative to surface resource protection to the extent consistent with exploration and development. In doing so, the BLM anticipates that perception of market conditions and confidence will return to baseline.

Comment: A commenter said that the BLM's Draft Economic Analysis for the proposed rescission is inadequate and omits significant economic effects. The commenter stated that the BLM's baseline assumptions are inconsistent, as the BLM claims decisions in the 2022 IAP are unaffected while simultaneously initiating a process to consider changes to that plan. The commenter said the BLM must evaluate economic costs of rescission in light of returning to management under the 2020 IAP. They also stated that the BLM's analysis found few economic costs associated with rescission and failed to quantify costs while discussing only benefits in depth. A commenter stated that the economic analysis ignores or misstates costs to Iñupiat life, health, safety, tradition, and culture. The commenter said the BLM wrongly stated that repeal “does not impose direct regulatory cost on any . . . community” and excluded costs that matter locally: loss of caribou and fish, additional fuel required to hunt farther, medical bills from pollution-related illness, and cultural loss. They stated that by comparing the rescission only to the 2024 NPR-A Rule and asserting the 2024 NPR-A Rule itself had “no major economic impacts,” the BLM self-justifies a finding of negligible effects. A company commented that the BLM claims that rescission would have little economic effect because it would revert management of the NPR-A back to the 2022 IAP. However, the BLM also indicates that the rescission will actually revert management to the older 2020 IAP, under which more land would be subject to fluid mineral leasing and development. The commenter said that this explains why the BLM's analysis appears to show minimal adverse effects on the human environment compared to the 2024 regulations and 2022 IAP baseline, and yet significant economic gains for local entities and global energy markets compared to the 1977 regulations and the 2020 IAP baseline. Therefore, the commenter said that the BLM must analyze a new IAP and consider not only the potentially minor impacts of moving from the 2024 NPR-A Rule to the 2022 IAP, but the further impacts of moving to the 2020 IAP. Finally, one commenter submitted a detailed economic report outlining potential economic impacts of GHG emissions that it asserted could occur as a result of assumed future development in the Reserve.

BLM Response: While the BLM received and reviewed multiple comments pertaining to the potential economic impacts of this rule, as well as economic data related to GHG impacts, these are speculative and would not directly result from the regulatory changes in this rule, because, as explained elsewhere, this regulatory change is not self-executing, does not change management decisions, and does not have any on-the-ground impacts. To help further explain this, the BLM notes that regulatory updates can influence how public lands are managed by clarifying procedures, streamlining reviews, or adjusting how types of uses may be considered. These changes can shape the range of possibilities for future land use, but they do not directly result in new projects or developments. Actual land-use decisions depend on a variety of real-world factors. These include market demand, the cost of development, and whether a proposed use is technically feasible. In many cases, these factors are more influential than the regulations themselves in determining what ultimately happens on the ground. Therefore, while a regulatory change might make certain types of projects easier to propose or evaluate, it does not guarantee that those projects will occur.

As has been the standard since long before the 2024 NPR-A Rule, landscape level surface management decisions, including special area boundaries and management restrictions, are made apart, and independently from this final rule, through the IAP process. As such, IAP decisions are not linked with this rule. The economic analysis for this final rule acknowledges that the updated regulatory framework, the reduced process for leasing in special areas is unlikely to spur significant development. Therefore, negative environmental impacts as well as increased economic activity are unlikely to occur from the 2025 Final Rule.

Specific to the comment about evaluating the economic costs of rescission in light of returning to management under the 2020 IAP, since the IAP process is separate from the regulatory process, this request would be pre-decisional under NEPA and is outside of scope of this rulemaking.

Comments on Tribal Consultation and Co-Stewardship Opportunities

Comment: A commenter stated that the 2024 NPR-A Rule represented a framework that respected both Western science and Iñupiat Traditional Knowledge in land management, giving Indigenous knowledge a rightful place in setting management priorities and mitigation measures. The commenter expressed that the 2024 NPR-A Rule was a tangible reflection of the DOI's trust responsibility by putting substantive protections in place for subsistence and cultural values and mandating consultation with Tribes, and to rescind those protections would be a “betrayal” of the Department's trust obligation. The commenter said that by rescinding the 2024 NPR-A Rule, the BLM would effectively be “elevating industry convenience” over the lives of Iñupiat people, which is the opposite of what a trustee should do. Instead, the commenter said that the agency should be strengthening co-stewardship mechanisms, incorporating Indigenous Knowledge at every step, and ensuring that future generations can continue to thrive on these lands. Other commenters expressed support for the proposed rule and stated that the North Slope Iñupiat have lived in the Arctic for over 10,000 years and are proud of their self-determination efforts to ensure future generations of Iñupiat continue to reside in their communities and have access to essential services. The commenters said they want the opportunity to continue to assert their self-determination on their homelands for the preservation of their economy, communities, and culture, and for this to happen, they need to be included in the decision-making process to produce durable, long-lasting policies. The commenter expressed that the 2024 NPR-A Rule's implementation undermined trust in the government-to-government relationship and sidelined the voices of those most affected. The commenter suggested that repealing the 2024 NPR-A Rule would reaffirm the BLM's commitment to tribal consultation and intergovernmental coordination.

BLM Response: This final rule does not affect the BLM or DOI's requirements or commitment to consult with federally recognized Tribes and Alaska Native Corporations nor does it reduce opportunities for co-stewardship agreements. These opportunities remain available to federally recognized Tribes and Alaska Native Corporations and Federal agencies pursuant to E.O. 13175 Consultation and Coordination with Indian Tribal Governments, Department policy (Joint S.O. 3403 Joint Secretarial Order on Fulfilling the Trust Responsibility to Indian Tribes in the Stewardship of Federal Lands and Waters) and the Indian Self-Determination and Education Assistance Act (Pub. L. 93-638). There are multiple examples across Alaska of these types of agreements, which were enacted without the regulatory direction in the 2024 NPR-A Rule, including: a multi-year, self-governance funding agreement to transfer a portion of the BLM's cultural resource activities and functions to Kawerak, Inc., a Tribal non-profit consortium representing 20 Tribal governments in the Bering Strait Region; a multi-bureau self-governance funding agreement for education and outreach programs that further subsistence and Indigenous Knowledge with the Tanana Chiefs Conference, a consortium of federally recognized Indian Tribes; and a multi-year self-governance funding agreement with Ahtna, Inc, the Alaska Native Regional Corporation with lands stretching across the southcentral interior of Alaska, to improve management of easements that provide access to public lands and waters across privately owned Ahtna lands. To clarify however, the BLM has modified the language in 2361.10(d) to include references to Indian Tribes, and Alaska Native Claims Settlement Act of 1971 (ANCSA) Corporations as part of the BLM's obligation to consult on protection of the environment when making management decisions in the NPR-A.

Comment: Another commenter stated that the BLM has binding legal duties to protect the NPR-A's unique values and the subsistence rights of Indigenous people, and that the 2024 NPR-A Rule was carefully crafted to comply with and implement these duties. The commenter expressed that revoking the 2024 NPR-A Rule would put the BLM at odds with its statutory mandates and the Federal Government's obligations to Indigenous peoples.

BLM Response: This final rule does not affect the BLM or DOI's requirements or commitment to consult with federally recognized Tribes and Alaska Native Corporations nor does it reduce opportunities for co-stewardship agreements. These opportunities remain available to federally recognized Tribes and Alaska Native Corporations and Federal agencies pursuant to E.O. 13175, Joint S.O. 3403, and the Indian Self-Determination and Education Assistance Act (Pub. L. 93-638). Furthermore, this final rule does not affect the BLM's requirements to analyze and account for the impacts to subsistence activities under ANILCA section 810 whether from a project or as part of the analysis for an IAP. Management decisions, including which stipulations and required operating procedures are necessary to ensure proper protection of surface resources and consideration of special areas, will still be made through the separate IAP process and associated ANILCA section 810 analyses. The NPRPA is a dominant-use statute that directs the BLM to manage the NPR-A primarily for oil and gas leasing, exploration, development, and production, and provides the BLM with discretion to determine the appropriate framework for protecting surface resources throughout the NPR-A. Further, the maximum protection of significant surface values within special areas, while required by the NPRPA, only applies to the extent consistent with the exploration and production requirements of the Act. This rule correctly reflects this statutory mandate. To clarify however, the BLM has modified the language in § 2361.10(d) to include references to Indian Tribes, and ANCSA Corporations as part of the BLM's obligation to consult on protection of the environment when making management decisions in the NPR-A.

V. Section-by-Section Analysis for Part 2360

This rule makes the following changes to part 2360. The language found in subpart 2361 of the existing regulations is rescinded and, for the most part, reverts to the original regulatory language that published in the rule promulgated in 1977 (42 FR 28721, June 3, 1977). The 1977 regulations were in place until May 7, 2024, when the 2024 NPR-A Rule published. Through this final rule, the BLM has reviewed, evaluated, and provided responses to the substantive comments received during the public comment period and through Tribal consultation. Where appropriate, the BLM made technical changes, corrections, and clarifications to the proposed rule, including in response to certain public comments. A more in-depth discussion of the comments and changes made is provided in the discussion below.

In addition, in compliance with the Office of the Federal Register's Document Drafting Handbook's requirements for citation references, the BLM is revising proposed §§ 2361.0-1 through 2361.0-7 as §§ 2361.1 through 2361.7 in the final rule, and proposed §§ 2361.1 through 2361.3 as §§ 2361.10 through 2361.30 in the final rule. The following table is provided to help readers cross-reference changes made from the 2024 NPR-A Rule to the proposed rule's section designations and headings and how they appear in the final rule's section designations and headings. The regulation citations throughout the remainder of this preamble reflect the right-hand column shown in the table below labeled “2025 Final Rule Section” and are not further referenced in each of the Summary of Key Changes sections below.

Table 1 to V—Section-by-Section Changes Made From the 2024 Rule to the 2025 Proposed and Final Rules
2024 Rule section | 2025 Proposed rule section | 2025 Final rule section
2361.1 Purpose. | 2361.0-1 Purpose. | 2361.1 Purpose.
2361.3 Authority. | 2361.0-2 Objectives. | 2361.2 Objectives.
2361.4 Responsibility. | 2361.0-3 Authority. | 2361.3 Authority.
2361.5 Definitions. | 2361.0-4 Responsibility. | 2361.4 Responsibility.
2361.6 Effect of law. | 2361.0-5 Definitions. | 2361.5 Definitions.
2361.7 Severability. | 2361.0-6 [RESERVED]. | 2361.6 [RESERVED].
2361.10 Protection of surface resources. | 2361.0-7 Effect of law. | 2361.7 Effect of law.
2361.20 Existing Special Areas. | 2361.1 Protection of the environment. | 2361.10 Protection of the environment.
2361.30 Special Areas designation and amendment process. | 2361.2 Use authorizations. | 2361.20 Use authorizations.
2361.40 Management of oil and gas activities in Special Areas. | 2361.3 Unauthorized use and occupancy. | 2361.30 Unauthorized use and occupancy.
2361.50 Management of subsistence uses within Special Areas.
2361.60 Co-stewardship opportunities in management of Special Areas and subsistence.
2361.70 Use authorizations.
2361.80 Unauthorized use and occupancy.

Subpart 2361—Management and Protection of the National Petroleum Reserve in Alaska

2361.1 Purpose

The existing regulation states that the purpose of the regulations in this subpart is to provide procedures for protection and control of the environmental, fish and wildlife, and historical and scenic values of the NPR-A from significantly adverse effects of oil and gas activities on the surface resources of the NPR-A and assuring maximum protection of significant resource values in special areas pursuant to and consistent with the provisions of the NPRPA, ANILCA and other applicable authorities.

The BLM proposed to reinstate the prior 1977 language for the Purpose to ensure statutory consistency with the NPRPA.

Public Comments on the Proposed Rule

No substantive public comments were received on the specific language of this section.

Summary of Key Changes Between the Proposed and Final Rule

The BLM updated this section of the proposed rule in the final rule to account for all applicable Federal laws.

2361.2 Objectives (2025 Rule)

The existing regulations removed this section of the 1977 regulations.

The BLM proposed to reinstate the prior 1977 language for the Objectives to ensure consistency with the NPRPA requirements for petroleum exploration and development in the NPR-A.

Public Comments on the Proposed Rule

No substantive public comments were received on the specific language of this section.

Summary of Key Changes Between the Proposed and Final Rule

The BLM updated this section of the proposed rule in the final rule to account for the language in the 1981 Appropriation Act amendment to the NPRPA.

2361.3 Authority

The existing rule identifies the NPRPA; the Department of the Interior Appropriations Act, Fiscal Year 1981 (Pub. L. 96-514), which amended the NPRPA; FLPMA and ANILCA, including the caveat that the land use planning and wilderness study requirements of FLPMA do not apply to lands within the NPR-A, pursuant to 42 U.S.C. 6506a(c).

The BLM proposed to rescind and revert to the original regulatory language that published in the rule promulgated in 1977 (42 FR 28721, June 3, 1977).

Public Comments on the Proposed Rule

Substantive public comment was received identifying specific statutory authority relevant to being included in this section to ensure comprehensive understanding of these statutory objectives. See Section II—NPR-A Background of this preamble.

Summary of Key Changes Between the Proposed and Final Rule

We have updated the final rule section to include the Department of the Interior Appropriations Act, Fiscal Year 1981 (Pub. L. 96-514), as an additional primary statutory authority with the NPRPA, and listed other applicable authorities including ANILCA and FLPMA, exclusive of sections 202 and 603, which do not apply pursuant to 42 U.S.C. 6506a(c).

2361.4 Responsibility

The existing rule states that the BLM is responsible for the surface and subsurface management of the NPR-A, including protecting surface resources from environmental degradation and assuring maximum protection of significant resource values in special areas. The Act authorizes the BLM to prepare rules and regulations necessary to carry out surface-management and protection activities.

The BLM proposed to remove unnecessary, redundant, and potentially misleading language and to revert to the original language that appeared in the rule promulgated in 1977 (42 FR 28721, June 3, 1977), which is a better distillation of BLM's statutory responsibilities. For example, the 2024 Rule noted that that BLM must “assur[e] maximum protection of significant resource values in Special Areas” without stating that protection is required only “to the extent consistent with the requirements of [the NPRPA],” the exclusion of which is potentially misleading. The remainder of the 2024 Rule's additions to 2361.4 are unnecessary and redundant.

Public Comments on the Proposed Rule

No substantive public comments were received on the specific language of this section.

Summary of Key Changes Between the Proposed and Final Rule

To better align the regulatory text with BLM's statutory responsibilities, the BLM enhanced the 1977 language by emphasizing that BLM's management of the NPR-A—including the protection of surface resources—must align with statutory requirements to conduct an expeditious oil and gas leasing program. Additionally, paragraph (b) from the 1977 language was removed because the USGS is no longer responsible for managing exploration in the NPR-A (S.O. 3071, 47 FR 4751 (Feb. 2, 1982); S.O. 3087, 48 FR 8982-83 (Mar. 2, 1983)). New language was added to clarify that the BLM now holds the responsibility for managing exploration and development in the NPR-A. The BLM also updated this section with minor stylistic and grammatical edits.

2361.5 Definitions

The existing rule includes 13 definitions. The BLM proposed to simplify this section by removing unnecessary definitions, such as Bureau and significant resource value, and to revert to the original language that appeared in the rule promulgated in 1977 (42 FR 28721, June 3, 1977). To the extent that certain terms were introduced by the 2024 Rule, such as “infrastructure,” definitions of those terms are also no longer necessary.

Public Comments on the Proposed Rule

Comment: A commenter stated that the BLM's definition of “significant resource value” in the 2024 NPR-A Rule is impermissibly overbroad. The commenter said that the definition includes “any surface value” that the BLM identifies as significant, which contradicts the NPRPA's closed list of specific values (subsistence, recreational, fish and wildlife, historical, or scenic). The commenter expressed that this definition gives the BLM “unbridled discretion” beyond explicit statutory authority. The commenter expressed that when combined with the definition of special areas, these definitions could potentially encompass the entire NPR-A since virtually any portion contains “surface values” that the BLM could label as “significant.” The commenter said this broad definition could allow the BLM to thwart the congressionally mandated oil and gas leasing program in which private investments have already been made. A commenter stated that the updated definition of special areas in the 2024 NPR-A Rule exceeds the BLM's statutory authority by providing that such designated areas would be protected to a “maximum protection standard.” The commenter expressed that while the NPRPA exempted the NPR-A from FLPMA's planning requirements, it does not exempt the applicability of FLPMA's other provisions that allow reasonable impacts associated with oil and gas development.

BLM Response: This final rule includes rescission of the 2024 NPR-A Rule definition for “significant resource values.” Furthermore, the final rule is consistent with the direction in the NPRPA that exploration and production within areas designated by the Secretary of the Interior containing any significant subsistence, recreational, fish and wildlife, or historical or scenic value, would be conducted in a manner which assures the maximum protection of such surface values to the extent consistent with the requirements for the exploration and production of the NPR-A (42 U.S.C. 6504(a)).

Comment: A commenter requested that the BLM define what constitutes a Special Value warranting consideration to be designated as a special area.

BLM Response: Section 104(b) of the NPRPA (42 U.S.C. 6054((a)) provides the definition for values that could be considered for designation of a special area, specifically, any significant subsistence, recreational, fish and wildlife, or historical or scenic value.

Comment: A commenter stated that the 2024 NPR-A Rule's definition of “infrastructure” is arbitrary and capricious and contrary to law. The commenter expressed that the 2024 NPR-A Rule designates new oil and gas locations for commercial development as restricted for “infrastructure” while exempting exploratory wells drilled in a single season. The commenter said that this definition fails to recognize the reality of development timelines in the NPR-A, where a leaseholder might spend hundreds of millions of dollars on exploratory drilling but could never actually develop its leases due to restrictions on infrastructure for commercial development.

BLM Response: This final rule includes rescission of the 2024 NPR-A Rule definition for “infrastructure.”

Summary of Key Changes Between the Proposed and Final Rule

The BLM updated this section in the final rule with minor grammatical edits.

2361.6 [RESERVED] (2025 Rule)

The existing regulations removed this section of the 1977 regulations.

The BLM proposed to reinstate § 2361.6 and revert to the regulatory language that appeared in the rule promulgated in 1977 (42 FR 28721, June 3, 1977).

Public Comments on the Proposed Rule

No public comments were received on the specific language of this section.

Summary of Key Changes Between the Proposed and Final Rule

The BLM did not change this section of the proposed rule in the final rule.

2361.7 Effect of Law (2025 Rule)

Existing § 2361.6 is redesignated to § 2361.7 in the final rule.

The existing regulations included provisions to implement the Department of the Interior Appropriations Act, Fiscal Year 1981, Public Law 96-514 (Dec. 12, 1980), 94 Stat. 2957, 2964, and the Barrow Gas Field Transfer Act of 1984, Public Law 98-366 (July 17, 1984), 98 Stat. 468, 470.

The BLM proposed to reinstate § 2361.7 and revert to the original regulatory language that published in the rule promulgated in 1977 (42 FR 28721, June 3, 1977).

Public Comments on the Proposed Rule

No substantive public comments were received on the specific language of this section.

Summary of Key Changes Between the Proposed and Final Rule

The BLM updated this section with minor grammatical edits.

2361.7 Severability (2024 Rule)

Existing § 2361.7 is removed in the final rule.

The existing rule established that if any provision of part 2360 is invalidated, then all remaining provisions would remain in effect.

The BLM proposed to revert to the original regulatory language that published under the rule promulgated in 1977 (42 FR 28721, June 3, 1977).

Public Comments on the Proposed Rule

No substantive public comments were received on the specific language of this section.

Summary of Key Changes Between the Proposed and Final Rule

The BLM did not change this section of the proposed rule in the final rule.

2361.10 Protection of the Environment

The title of this section is changed from “protection of surface resources” to “protection of the environment” in the final rule.

The 2024 NPR-A Rule included standards and procedures for managing and protecting surface resources in the NPR-A from the reasonably foreseeable and significantly adverse effects of oil and gas activities, including that, in some circumstances, the BLM may delay or deny proposed activities that would cause reasonably foreseeable and significantly adverse effects on surface resources. The existing regulations spelled out procedures for protecting surface resources in the NPR-A and directed the BLM to manage oil and gas activities in accordance with the IAP. Additionally, paragraph (b)(2) of the existing regulations required the BLM, in each decision concerning oil and gas activity in the NPR-A, to adopt measures to mitigate the reasonably foreseeable and significantly adverse effects on surface resources, taking particular care with surface resources that support subsistence. Paragraph (b)(3) requires the documentation and consideration of any uncertainty concerning the nature, scope, and duration of potential effects on surface resources, and assurance that any conditions or restrictions on proposed oil and gas activities account for and reflect any such uncertainty.

As described above, these standards and procedures largely conflicted with the statutory direction in the NPRPA, as amended, or were not necessary to comply with that statutory direction, and were not consistent with the current national energy policy as articulated in, among other things, E.O. 14153. Specifically, § 2361.10(a) requires the BLM to consider community access and infrastructure needs as part of mitigation for proposed projects, § 2361.10(b)(2) requires the BLM to take particular care to account for, and mitigate adverse effects on, surface resources that support subsistence uses and needs when considering a proposed activity; and § 2361.10(b)(3) requires the BLM to document consideration of any uncertainty with regard to potential effects on surface resources and shall ensure that any conditions, restrictions, or prohibitions account for and reflect any such uncertainty. None of these provisions is required by statute, and collectively they have the potential to impermissibly delay the BLM's ability to implement the purpose of the NPRPA for exploration and production of oil and gas resources and frustrate furtherance of this Administration's National Energy Policy. The BLM also proposed to revise § 2361.10 by removing unnecessary language (e.g., 2361.10(b)(1)) and to ensure consistency with the NPRPA requirements for petroleum exploration and development in the NPR-A and to ensure the language of the regulations is consistent with current national energy policy.

Public Comments on the Proposed Rule

Comment: A commenter recommended that the BLM note in its regulation that the discretion of the authorized officer (AO) is limited “[t]o the extent consistent with the requirements of this Act for the exploration of the reserve” and avoid granting unchecked authority to “limit, restrict, or prohibit use of and access to lands within the Reserve.” The commenter stated that the NPRPA explicitly directs the BLM to “make such dispositions of mineral materials and grant such rights-of-way, licenses, and permit as may be necessary to carry out his responsibilities under this act” and recommended that the BLM align its management more closely with congressional intent and law.

BLM Response: The BLM AO's delegated authority will be exercised consistent with applicable law(s) and policy under the Department and/or Bureau. To the extent the commenter felt that the 2024 NPR-A Rule increased the discretion of the AO through phrases such as “the Bureau must protect surface resources by adopting whatever conditions, restrictions, and prohibitions [BLM] deems necessary,” 2361.10(a), this rule removes any ambiguity.

Comment: A commenter stated that the 2024 NPR-A Rule unlawfully and retroactively impacts existing operations and valid existing lease rights by providing the BLM with the requirement that it “must protect surface resources by adopting whatever conditions, restrictions, and prohibitions it deems necessary.” They said this direction directly contravenes FLPMA's charge that the BLM prevent “unnecessary or undue degradation of public lands” and cited DOI court decisions stating that FLPMA's non-impairment standard “cannot be used to defeat a lessee's valid existing right to develop a lease.” The commenter stated that the BLM cannot unilaterally modify the terms of an existing lease to impose the 2024 NPR-A Rule to protect surface resources, as valid existing rights are not pre-empted by the BLM's future determinations for resource protection. The commenter cited Federal court interpretations that valid existing rights mean Federal agencies cannot impose stipulations that make development on existing leases uneconomic or unprofitable, and that any application of the 2024 NPR-A Rule to constrain development of existing leases would constitute a material breach or regulatory taking.

BLM Response: This final rule rescinds the 2024 NPR-A Rule. However, the NPRPA provides that activities undertaken within the NPR-A may include or provide for such conditions, restrictions, and prohibitions as the Secretary (acting through the BLM) deems necessary or appropriate to mitigate reasonably foreseeable and significantly adverse effects on the surface resources of the NPR-A (42 U.S.C. 6506a(b)). As such, this provision remains a requirement of law and not the 2024 NPR-A Rule. The BLM will implement that provision subject to valid existing rights and other applicable law.

Summary of Key Changes Between the Proposed and Final Rule

The BLM updated this section with minor grammatical edits and clarifications. In addition, the BLM changed the final rule by deleting paragraph (b) from the 1977 language because the USGS is no longer responsible for managing exploration in the NPR-A (S.O. 3071, 47 FR 4751 (Feb. 2, 1982); S.O. 3087, 48 FR 8982-83 (Mar. 2, 1983)); updating language to use modern nomenclature and practices including the need to consult with both Tribes and ANCSA Corporations; and updating to take into account laws related to historic properties and archaeological sites that were enacted after the 1977 rule was promulgated. These laws have taken the place of what used to be called a Federal Antiquities permit.

2361.20 Existing Special Areas (2024 Rule)

Existing § 2361.20 is removed in the final rule.

The 2024 NPR-A Rule required any lands designated as a special area to continue to be managed as such for the already-identified values and any additional values identified through the process set forth in existing § 2361.30. The existing rule specified that a map of each special area would be available at the Arctic District Office, which is the BLM office that currently oversees the NPR-A. The BLM would also publish and maintain copies of these maps on its website.

The BLM proposed to revert to the original regulatory language that published in the rule promulgated in 1977 (42 FR 28721, June 3, 1977), which did not include a specific section on existing special areas. This section is unnecessary to effectively manage surface resources in the NPR-A. Management decisions, including the boundaries of special areas, the significant surface values to be protected, and which stipulations and required operating procedures are necessary to ensure proper protection of surface resources, have historically been made through the IAP process. This allows for maximum flexibility. The existing rule codifies which resource values should receive protection in existing special areas, which could complicate the BLM's ability to make timely decisions for protection of surface resources and for authorized uses within the NPR-A. The IAP process or project-level decisions remain superior vehicles for explaining how exploration and development within designated areas should occur.

Public Comments on the Proposed Rule

No substantive public comments were received on the specific language of this section.

Summary of Key Changes Between the Proposed and Final Rule

The BLM did not change this section of the proposed rule in the final rule.

2361.30 Special Areas Designation and Amendment Process (2024 Rule)

Existing § 2361.30 is removed in the final rule.

The existing rule added a new section that provided redundant standards and procedures for designating and amending special areas, a process that has historically been addressed through the IAP process. The existing rule establishes a rigid framework for the BLM's decisions to designate special areas based almost entirely on whether significant resource values already codified in § 2361.20 are present, and prohibited the BLM from considering the existence of measures to protect or otherwise administer those values. This approach limits the BLM's ability to quickly adapt management of surface resources to changes in technology or the changing development landscape in order to implement an expeditious program of oil and gas leasing. The identification of “special” areas where significant values exist in NPR-A is a fact-based inventory determination based on the best available information during preparation of an IAP. As such, the special area boundaries that result are not areas set aside specifically for non-development but simply a recognition of where certain management prescriptions may be necessary to accomplish “maximum protection” of those surface values, while allowing development to occur. The IAP process uses current resource surveys, an understanding of where future development may occur, and public input to consider how best to set special area boundaries, identify significant surface resources in need of protection, and develop appropriate protection measures for those values based on the best available data. This process, not the process detailed in the existing rule, is the process by which the boundaries of all current special areas were designated. Also, 2361.30(c)'s unnecessary constrains on removal of land from special areas prohibits the BLM from considering site-specific factors other than the values being present (e.g., a determination that those values are no longer significant) in determining whether to remove lands from special areas, again in frustration of the NPRA-s primary and dominant purpose: oil and gas exploration and production.

The BLM proposed to revert to the original regulatory language that published in the rule promulgated in 1977 (42 FR 28721, June 3, 1977). As has been the standard since long before the 2024 NPR-A Rule, special area identification, including boundaries and management restrictions, are made through the IAP process. This section is unnecessary to effectively manage surface resources in the NPR-A. Management decisions, including which stipulations and required operating procedures are necessary to ensure proper protection of surface resources and consideration of special areas, are made through the IAP process. Additionally, many of the procedures outlined in § 2361.30 are the same as those used in the IAP process, including the use of best available scientific information in § 2361.30(a)(1), the public notice and comment requirement in § 2361.30(a)(2), and the consultation requirements in § 2361.30(a)(3). Further, the BLM's public input obligations for special areas in §§ 2361.30(b)(3) and 2361.30(c)(2) are captured by § 2361.10(c) of this final rule. The existing rule either reiterates already-existing processes or adds additional, unnecessary processes that could complicate the BLM's ability to make timely decisions for protection of surface resources and for authorized uses within the NPR-A.

Public Comments on the Proposed Rule

Comment: A commenter expressed support for the requirement to perform a review every 10 years. The commenter said that, critically, the 2024 NPR-A Rule requires the BLM to invite Tribes, local residents, and the public to recommend lands or values for protection during each review. The commenter said that this process creates an ongoing dialogue where our knowledge can directly inform land management, which is community planning in action. Rescinding the 2024 NPR-A Rule would cut off that dialogue, according to the commenter.

BLM Response: Under this final rule, the BLM is free to review special areas at any time and may do so through a full IAP revision process, or through a targeted amendment to the IAP. Further, the final rule requires the BLM to seek comments on recommendations from the public and submit these comments along with the recommendation to the Secretary on any proposed special area. In addition, this final rule does not affect the BLM or DOI's requirements or commitment to consult with federally recognized Tribes and ANCSA Corporations nor does it reduce opportunities for co-stewardship agreements. These remain available to federally recognized Tribes, ANCSA Corporations, and Federal agencies pursuant to E.O. 13175 Consultation and Coordination with Indian Tribal Governments, Department policy (Joint S.O. 3403 Joint Secretarial Order on Fulfilling the Trust Responsibility to Indian Tribes in the Stewardship of Federal Lands and Waters) and the Indian Self-Determination and Education Assistance Act (Pub. L. 93-638). To clarify however, the BLM has modified the language in 2361.10(d) in the final rule to include references to Indian Tribes and ANCSA Corporations as part of the BLM's obligation to consult on protection of the environment when making management decisions in the NPR-A.

While rescinding the rule does eliminate certain provisions that created a specific schedule for public input and consultation during decision-making processes, particularly for special areas, the BLM's public input obligations remain unchanged both as required by §§ 2361.10(c) and 2361.10(d)(1) of this final rule and as a part of future IAP and project-specific decision-making processes.

Comment: A commenter expressed support for the 2024 NPR-A Rule's codification that special areas like the Teshekpuk Lake Special Area, which includes Fish Creek, must be managed for maximum protection of their significant values, including fish habitat. The commenter stated that the 2024 NPR-A Rule provides for new special areas to be designated to protect places like Fish Creek explicitly for subsistence fishing. The commenter urged the BLM to strengthen protections for fish and water by prohibiting infrastructure in key fish habitats and strictly limiting water withdrawals, or at minimum retain the 2024 NPR-A Rule's protective baseline.

BLM Response: The NPRPA is a dominant-use statute that directs the BLM to manage the NPR-A primarily for oil and gas leasing, exploration, development, and production, and provides the BLM with discretion to determine the appropriate framework for protecting surface resources throughout the NPR-A. Further, the maximum protection of significant surface values within special areas, while required by the NPRPA, only applies to the extent consistent with the exploration and production requirements of the Act. This rule correctly reflects this statutory mandate.

As has been the standard since long before the 2024 NPR-A Rule, special area identification, including boundaries and management restrictions, are made through the IAP process and that will be unaffected by this rule. As discussed earlier, subsistence use is one of the significant surface values for which the BLM may apply maximum protection measures within special areas, to the extent consistent with the exploration and production requirements of the Act.

The final rule returns management of the NPR-A to the primary purpose of oil and gas leasing, exploration, development, and production, but—like the 2024 NPR-A Rule—it is not self-executing, meaning that it does not itself make any substantive changes on the ground and will not restrict the BLM's discretion to take or authorize future on-the-ground actions. Instead, this rule provides the BLM with the appropriate level of discretion to consider future on-the-ground actions—through the IAP process or project-specific decision making to analyze and account for the impacts to surface values and subsistence activities—consistent with the resource protection provisions of the NPRPA. These management decisions, including which stipulations and required operating procedures are necessary to ensure proper protection of surface resources under the NPRPA (both within and outside special areas), are appropriately made through the IAP process, as well as project-specific decisions.

Summary of Key Changes Between the Proposed and Final Rule

The BLM did not change this section of the proposed rule in the final rule.

2361.40 Management of Oil and Gas Activities in Special Areas (2024 Rule)

Existing § 2361.40 is removed in the final rule.

The existing rule added a section that detailed mechanisms for maximum protection of significant resource values in special areas by establishing new standards and procedures for achieving maximum protection of special areas, with a specific focus on oil and gas activities. It required the BLM to take such steps to avoid the adverse effects of oil and gas activities on special areas, including by conditioning, delaying action on, or denying proposals for activities (2361.40(a-c)). The rule codified that leasing and new infrastructure must conform to maps published as of June 6, 2024 (2361.40(d)) and established a presumption against leasing and new infrastructure on lands in special areas, even if the area is allocated as available for those activities (2361.40(f)). The rule limited the use of lands within special areas that were allocated as closed to leasing or unavailable to new infrastructure as of June 6, 2024 to certain circumstances, such as where new infrastructure would “primarily be used by and provide a benefit to communities” in the Reserve, or where a new lease would address drainage (2361.40(e)). The rule required certain additional documentation in an Environmental Assessment (EA) beyond what the National Environmental Policy Act (NEPA) requires for EAs, including that the rule required the BLM to document and consider any uncertainty regarding potential adverse effects on special areas and ensure that any approvals account for such uncertainty (2361.40(g)). It also required the BLM to prepare a statement of adverse effect whenever it cannot avoid adverse effects on a special area. In each statement, the BLM was required to describe the significant resource values that may be affected; the nature, scope, and duration of the effects; measures the BLM evaluated to avoid those effects; a justification for not requiring those measures; and measures it would require to minimize and mitigate the adverse effects on significant resource values.

The BLM proposed to remove this section as it would unnecessarily restrict the leasing, exploration, development, and production of oil and gas resources within the NPR-A, which is contrary to the congressional direction in the NPRPA to develop lands within the NPR-A, including special areas, as part of an expeditious oil and gas leasing program. For example, 2361.40(a) directs the authorized officer to consider “conditioning, delaying action on, or denying proposals for activities, either in whole or in part” as necessary to avoid the adverse effects on significant resource values of Special Areas. Further 2361.40(e) directs the authorized officer to “presume that proposed oil and gas activities should not be permitted” within special areas unless certain findings are made. This would effectively prohibit any new oil and gas leasing and new infrastructure, unless required for existing leases, in areas that the BLM had designated as open to leasing or available for new infrastructure in the 2022 IAP. The presumption against oil and gas leasing and new infrastructure established in the 2024 NPR-A Rule coupled with the adoption by rule of the 2022 IAP maps is contrary to the plain language direction of the NPRPA because it creates a framework that would effectively prohibit new leasing and new oil and gas infrastructure in certain areas the BLM had already determined, through the IAP process, should be available for leasing and new infrastructure just two years earlier. In doing so, the 2024 NPR-A Rule circumvents the analysis and public process that went into developing the decisions in the 2022 IAP, particularly the decisions to leave certain portions of special areas open to oil and gas leasing and new infrastructure. While the 2024 NPR-A Rule provides a process for de-designating or modifying the management restrictions within special areas, the rule would require additional analysis and findings that go beyond what otherwise would be required by the NPRPA or NEPA. This regulatory sleight of hand is by is contrary to the to the purposes of the NPRPA that the BLM implement an expeditious oil and gas leasing, exploration, development, and production in the NPR-A, and contravenes decades of agency practice. This restriction is therefore contrary to the purposes and plain language of the NPRPA and creates uncertainty for industry.

In addition, this section is unnecessary to effectively manage surface resources in the NPR-A and is inconsistent with the national energy policy of this Administration. The additional procedures in this section do not further the purposes of the NPRPA and instead create delays and limit both the BLM and operators' ability to effectively carry out their obligations. For example, soon after the rule was issued, the BLM was required to complete a statement of adverse effect under 43 CFR 2361.40(g)(6) before approving the renewal of CPAI's annual environmental monitoring permit for 2024, part of the environmental monitoring and baseline studies in the required operating procedures for the 2022 NPR-A IAP ROD. The statement of adverse effect largely summarized information that had already been presented to the public and analyzed by the BLM in previously completed NEPA analysis, ANILCA section 810 analysis, and ESA consultation related to the approval of the project years earlier. This extra step delayed the BLM's renewal of CPAI's monitoring permit and impacted CPAI's ability to begin its seasonal monitoring on time. Further, NEPA and the Department's NEPA implementing procedures detail all that is needed for EAs.

Public Comments on the Proposed Rule

Comment: Commenters stated that the BLM lacks authority to require compensatory mitigation in the NPR-A under § 2361.40(g). One commenter pointed out that a bedrock principle of administrative law is that agency regulations must be based on statutory authority, and congressional statutes define the permissible bounds of a Federal agency action. The commenter stated that NPRPA and FLPMA do not authorize or contemplate compensatory mitigation, contrary to the position BLM took in the 2024 Rule.

BLM Response: The provision under § 2361.40(g) discussing compensatory mitigation is removed from the final rule as part of this process.

Comment: A commenter stated that the 2024 NPR-A Rule requires that the BLM face any trade-offs openly. They expressed that under the 2024 NPR-A Rule, if a proposed oil activity would harm a special area, the BLM must prepare a statement of adverse effect describing the significant subsistence or environmental values at stake, the nature and duration of the harm, all the avoidance measures considered, and why those measures could not be adopted. The commenter stated that the statement must also detail what mitigation the BLM will require to minimize the damage (including compensatory mitigation, if needed). The commenter expressed that this document cannot be tucked away—the 2024 NPR-A Rule makes it public and subject to community review and comment, and the BLM must consult with affected Tribes before finalizing it. The commenter stated that this process is invaluable as it forces the BLM to acknowledge the real-world impacts on subsistence and culture, on the record, before approving any project in a special area. In addition, an individual commenter said that this requirement that activities have “no or minimally adverse effects” is not an obstruction to development but rather a necessary filter that ensures wildlife and cultural values are not irreparably harmed by short-sighted industrial expansion.

BLM Response: After thorough consideration, the BLM has determined that a standalone statement of adverse effect is unnecessary because the BLM's existing legal obligations under NEPA, ESA, ANILCA, and the NHPA, as well as other laws, already require comprehensive analysis, public transparency, and tribal consultation. Further, requiring additional processes that are duplicative and overly complex introduced procedural inefficiencies and uncertainty that unreasonably restricted the leasing, exploration, development, and production of oil and gas resources contrary to the purposes of the NPRPA and the national energy policy.

As an example, for the 2024 renewal of CPAI's annual environmental monitoring—a requirement of the environmental monitoring and baseline studies required by the 2022 NPR-A IAP ROD Required Operating Procedures—the BLM was required to write a statement of adverse effect document in addition to the NEPA, ANILCA section 810 analysis, and ESA consultation. This statement was a regurgitation of the information already analyzed in the other three documents. Rescinding the 2024 NPR-A Rule removes this burdensome and redundant practice.

Therefore, this final rule rescinds the procedural complexity created by the requirement for a statement of adverse effect which deters development rather than appropriately regulating development consistent with the statutory framework under the NPRPA.

Summary of Key Changes Between the Proposed and Final Rule

The BLM did not change this section of the proposed rule in the final rule.

2361.50 Management of Subsistence Uses Within Special Areas (2024 Rule)

Existing § 2361.50 is removed in the final rule.

The 2024 NPR-A Rule added a new section that required special areas to be managed to protect and support fish and wildlife and their habitats and the associated subsistence use of those areas by rural residents as defined in 50 CFR 100.4, the DOI's subsistence management regulations for public lands in Alaska. The rule also required the BLM to provide appropriate access to and within special areas for subsistence purposes and explicitly referenced assuring maximum protection of the significant resource values of the special areas in the context of providing that access.

The BLM proposed to remove this section as it is unnecessary to effectively manage surface resources in the NPR-A. Management decisions, including which stipulations and required operating procedures are necessary to ensure proper protection of surface resources and consideration of special areas, are made through the IAP process and associated ANILCA section 810 analysis. The existing rule simply adds additional, unnecessary processes that could complicate the BLM's ability to make timely decisions for protection of surface resources and for authorized uses within the NPR-A.

Public Comments on the Proposed Rule

No substantive public comments were received on the specific language of this section.

Summary of Key Changes Between the Proposed and Final Rule

The BLM did not change this section of the proposed rule in the final rule.

2361.60 Co-Stewardship Opportunities in Management of Special Areas and Subsistence (2024 Rule)

Existing § 2361.60 is removed in the final rule.

The existing rule added a new section that specified co-stewardship opportunities for special areas, including co-management, collaborative and cooperative management, and tribally led stewardship.

The BLM proposed to remove this section as it is redundant to existing E.O. 13175 Consultation and Coordination with Indian Tribal Governments and Department policy (Joint S.O. 3403 Joint Secretarial Order on Fulfilling the Trust Responsibility to Indian Tribes in the Stewardship of Federal Lands and Waters). In addition, it is unnecessary to effectively manage surface resources in the NPR-A.

Public Comments on the Proposed Rule

Comment: A commenter expressed support for the 2024 NPR-A Rule's creation of an explicit pathway for Tribal co-management of the NPR-A. The commenter stated that § 2361.60 directs the BLM to “seek co-stewardship opportunities” in managing special areas and subsistence resources, establishing shared stewardship as an obligation flowing from DOI's trust responsibility and Joint S.O. 3403. The commenter expressed concern that repealing the 2024 NPR-A Rule would eliminate this formal commitment to co-management and return to a piecemeal approach.

BLM Response: This final rule, that in part rescinds regulations specifying co-stewardship opportunities within the NPR-A, does not affect legal requirements nor the BLM's commitment to consult with federally recognized Tribes and ANCSA Corporations. Furthermore, this final rule does not eliminate the BLM's ability to consider or establish co-stewardship agreements. These processes will remain available to Federally recognized Tribes and ANCSA Corporations, the same as they have been available and utilized in the past, via existing E.O. 13175 and Joint S.O. 3403, or via the Indian Self-Determination and Education Assistance Act (Pub. L. 93-638). To clarify however, the BLM has modified the language in 2361.10(d) to include references to Indian Tribes, and ANCSA Corporations as part of the BLM's obligation to consult on protection of the environment when making management decisions in the NPR-A.

Demonstrated examples of BLM co-stewardship agreements across Alaska, which were established without the 2024 NPR-A Rule, include, but are not limited to: a multi-year, self-governance funding agreement to transfer a portion of the BLM's cultural resource activities and functions to Kawerak, Inc. (a Tribal non-profit consortium representing 20 Tribal governments in the Bering Strait Region); a multi-bureau self-governance funding agreement for education and outreach programs that further subsistence and Indigenous Knowledge with the Tanana Chiefs Conference (a consortium of federally recognized Indian Tribes); and a multi-year self-governance funding agreement with Ahtna, Inc. (the ANCSA Regional Corporation) with lands stretching across the southcentral interior of Alaska, to improve management of easements that provide access to public lands and waters across privately owned Ahtna lands.

Summary of Key Changes Between the Proposed and Final Rule

The BLM did not change this section of the proposed rule in the final rule.

2361.20 Use Authorizations (2025 Rule)

Existing § 2361.70 is redesignated to § 2361.20 in the final rule.

The existing regulations reiterated purposes and descriptions of the BLM's duties to protect surface resources and assure maximum protection of special areas significant resource values in the NPR-A.

The BLM proposed to revert to the original regulatory language that published in the rule promulgated in 1977 (42 FR 28721, June 3, 1977).

Public Comments on the Proposed Rule

No substantive public comments were received on the specific language of this section.

Summary of Key Changes Between the Proposed and Final Rule

The BLM updated this section to update cross references, and make minor grammatical edits to correct a typographical error in the 1977 regulation text.

2361.30 Unauthorized Use and Occupancy (2025 Rule)

Existing § 2361.80 is redesignated to § 2361.30 in the final rule. No substantive changes were proposed to this section.

Public Comments on the Proposed Rule

No substantive public comments were received on the specific language of this section.

Summary of Key Changes Between the Proposed and Final Rule

The BLM did not change this section of the proposed rule in the final rule.

VI. Procedural Matters

Regulatory Flexibility Act (RFA)

The Secretary of the Interior certifies that this final rule will not have a significant economic effect on a substantial number of small entities under the Regulatory Flexibility Act (5 U.S.C. 601 et seq.). The requirements of the rule are imposed on the BLM to govern their procedures. Private entities, including small entities, are not subject to the requirements of the rule and therefore will not incur costs or benefits from the changes. As such, the BLM is not required to prepare a final regulatory flexibility analysis with this final rule.

As assessed in the final rule economic analysis threshold analysis, this rule simply changes the BLM's internal procedures, which do not impose direct regulatory costs on any small entities. While beneficial impacts may accrue to small entities from BLM decisions made after the rule is issued, those benefits will be realized only if future decision-making processes result in increased production. Specifically, following finalization of the rule, the BLM would have to hold a successful lease sale, approve any necessary geologic or geophysical exploration, and approve an application for permit to drill and any right of way permits necessary for development.

Thus, any small entities trying to bid on or develop a lease may benefit from the recission of the 2024 NPR-A Rule only if those future decisions result in project approvals at each stage. Any benefits are unlikely to flow directly from the rule change. As a result, the BLM determined that the final rule will not have a “significant economic impact on a substantial number of small entities.”

Additionally, the BLM's analysis of the economic impacts of the rule demonstrates that, even if this rule were to have any effects on small businesses, it would not have a significant negative economic effect on a substantial number of small businesses. The Small Business Administration (SBA) has developed size standards to carry out the purposes of the Regulatory Flexibility Act (RFA), as amended by the Small Business Regulatory Enforcement Fairness Act. The size standards can be found at 13 CFR 121.201. For a specific industry identified by the North American Industry Classification System (NAICS), small entities are defined by the SBA as an individual, limited partnership, or small company considered at “arm's length” from the control of any parent company, which meet certain size standards.

If it has any effect, the final rule is most likely to affect business currently operating in the oil and gas sector in or near the NPR-A. Through a search of publicly available information, on the ground knowledge, and public comments, the BLM found that between two and four of the eight businesses holding leases in the NPR-A may be small entities according to the size standards in 13 CFR 121.201.

While these small businesses will not experience any impacts from the requirements of this rule, they may read the rule to be familiarized with it. These small businesses likely earn greater than $20 million in annual revenue and therefore will not experience a significant impact from familiarization, estimated to be roughly $270 for a manager to spend 2 hours reading the rule.

The SBA size standards identify small business in crude petroleum extraction (NAICS 211120) and natural gas extraction (NAICS 211130) to be those with 1,250 or fewer employees. In addition to those companies currently operating in the NPR-A, the 2025 Final Rule may impact other small businesses in oil and gas adjacent industries operating in Alaska. These businesses may be interested in expanding to the NPR-A if there are new opportunities to do so.

Other industries in the oil and gas sector as well as their respective SBA size standards are NAICS 213111 Drilling Oil and Gas Wells (1,000 employees) and NAICS 213112 Support Activities for Oil and Gas Operations ($47 million annual receipts). The U.S. Census Bureau's Statistics of U.S. Businesses (SUSB) reports the number of firms operating in each State by industry and employment size category. According to the Statistics of U.S. Businesses, there are approximately 30 to 40 small businesses involved in extraction, drilling, or support activities in the oil and gas industry in Alaska. In the broader sector of Mining, Quarrying, and Oil and Gas Extraction in Alaska, there are 105 small employers as well as 234 non-employers (2025 Office of Advocacy Alaska Small Business State Profile). These small businesses are not subject to the rule and do not experience any impacts from this rule.

In the proposed rule, the BLM also solicited additional information from the public regarding the potential impacts to small businesses from the rescission of the 2024 NPR-A Rule. Out of more than 250,000 public comments, fewer than 10 mentioned impacts to small businesses or governments. While the vast majority of these comments generally discussed the potential for positive impacts, they did not include specific information or supporting evidence that the regulatory change will cause these benefits. One comment, not from a small business, speculated that the rule change could have a negative economic impact on small ecotourism businesses. However, this is inconsistent with the general patterns of tourism (hunting and general recreation guide permits) within the NPR-A. Therefore, according to the BLM's analysis and public comments received, the final rule would not negatively impact a substantial number of small businesses in the NPR-A.

In addition, the BLM identified five small governmental jurisdictions that likely qualify as small entities according to the Regulatory Flexibility Act as they are governments of a population with less than 50,000 people. These governments include the North Slope Borough, the City of Wainwright, the City of Utqiagvik, the City of Atqasuk, and the City of Nuiqsut. These small entities rely on revenue from property taxes levied on oil and gas infrastructure in the NPR-A. Because the requirements of the rule are imposed on the BLM to govern their procedures, these small entities will not experience any change in impact from this rule. No small non-governmental organizations in the NPR-A commented that the rule would impact their ability to do business or advocacy. Therefore, the BLM determines that no small organizations independent and not dominant in their field will experience any impact from this rule.

Public Comments Received

Comment: A commenter stated that the economic analysis failed to consider the Iñupiat people as affected economic actors, discussing small entities exclusively in terms of oil-field contractors while ignoring impacts on North Slope residents, particularly those in Nuiqsut who live within the NPR-A. Similarly, an individual commenter said that the BLM considered the economic opportunities for small companies that worked directly on and “adjacent to” oil and gas exploration and extraction, but did not consider economic impacts to small companies or residents that work in other disciplines, such as tourism, hunting, recreation, arts, subsistence, etc.

BLM Response: The RFA aims to minimize the regulatory burden placed on small entities by Federal agencies by requiring Federal agencies to account for the cost of compliance with agency rules. The RFA applies to three types of small entities: small businesses as defined by section 3 of the Small Business Act (Pub. L. 85-536); small nonprofits that are independently owned and operated and not dominant in its field; and small governmental jurisdictions, such as governments of cities, counties, towns, townships, villages, school districts, or special districts with a population of less than 50,000. The IRFA analyzed potential impacts to small businesses and potential economic impacts to small government jurisdictions, including Wainwright, Utqiagvik, Atqasuk, and Nuiqsut. Detail has been added on other potential small entities that were identified through public comment including the North Slope Borough. Additional information on hunting and general recreation guide businesses was collected and the BLM determined the rule would not negatively affect these businesses. Ultimately, this final rule does not directly regulate small businesses, therefore there are no compliance costs for the final rule. While there may be beneficial impacts to small entities that may that occur as a result of downstream decisions made after the rule is issued, the BLM determined that the final rule will not have a “significant economic impact on a substantial number of small entities.” Thus, a certification under section 605(b) of the RFA is appropriate.

Congressional Review Act

Based upon the economic analysis prepared for this rule, this rule is not a major rule under 5 U.S.C. 804(2), subtitle E of the Small Business Regulatory Enforcement Fairness Act of 1996. This rule:

(a) Will not have an annual effect on the economy of $100 million or more.

(b) Will not cause a major increase in costs or prices for consumers, individual industries, Federal, State, or local government agencies, or geographic regions.

(c) Will not have significant adverse effects on competition, employment, investment, productivity, innovation, or the ability of U.S.-based enterprises to compete with foreign-based enterprises.

Unfunded Mandates Reform Act

This rule does not impose an unfunded mandate on State, local, or Tribal governments, or the private sector of more than $100 million per year. The rule does not have a significant or unique effect on State, local, or Tribal governments or the private sector. A statement containing the information required by UMRA (2 U.S.C. 1531 et seq.) is not required for the final rule. This final rule is also not subject to the requirements of section 203 of UMRA because it contains no regulatory requirements that might significantly or uniquely affect small governments, because it contains no requirements that apply to such governments, nor does it impose obligations upon them.

Takings (E.O. 12630)

This rule does not affect a taking of private property or otherwise have taking implications under E.O. 12630. Section 2(a) of E.O. 12630 identifies policies that do not have takings implications, such as those that abolish regulations, discontinue governmental programs, or modify regulations in a manner that lessens interference with the use of private property. The rule will not interfere with private property. A takings implication assessment is not required.

Federalism (E.O. 13132)

Under the criteria in section 1 of E.O. 13132, this rule does not have sufficient federalism implications to warrant the preparation of a federalism summary impact statement.

Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Paperwork Reduction Act

The Paperwork Reduction Act (PRA) (44 U.S.C. 3501-3521) generally provides that an agency may not conduct or sponsor and not withstanding any other provision of law a person is not required to respond to, a collection of information, unless it displays a currently valid Office of Management and Budget (OMB) control number. Collections of information include any request or requirement that persons obtain, maintain, retain, or report information to an agency, or disclose information to a third party or to the public (44 U.S.C. 3502(3) and 5 CFR 1320.3(c)).

This final rule contains information-collection requirements that are subject to review by OMB under the PRA. The information-collection requirements pertaining to submitting recommendations to designate lands as a special area within the NPR-A are generally approved by OMB under OMB Control Number 1004-0221 with a current expiration date of October 31, 2027.

The final rule rescinds and revises the information collection requirements pertaining to submitting special area recommendations within the NPR-A. The previous information collection requirements have been moved from 43 CFR 2361.30 to 2361.10(c). The change to the information collection requirements, along with the estimated associated burdens, are discussed below.

Recommendations for Special Areas (43 CFR 2361.10(c))

The prior regulations at § 2361.30(b)(3) contain one (1) non-form information collection requirement that is subject to the PRA. The prior regulations provided that the following information be provided when a member of the public recommends lands for a special area designation:

• The size and location of the recommended lands;

• The significant subsistence, recreational, fish and wildlife, historical, or scenic resource values that are present within or supported by the recommended lands;

• Measures that may be necessary to assure maximum protection of those values; and

• Any other pertinent information.

The revised information collection requirements located in § 2361.10(c) are as follows:

• A description of the values which make the area special;

• The significant subsistence, recreational, fish and wildlife, historical, or scenic resource values that are present within or supported by the recommended lands (See § 2361.5(f));

• The size and location of the area on appropriate USGS quadrangle maps; and

• Any other pertinent information.

The BLM does not believe that the revised information collection requirements for special area recommendations would result in a change in public burdens under this OMB Control Number 1004-0221. The only significant change from the prior to final information collection requirement for special area recommendations is the simplification of the administrative process and the specific request for USGS quadrangle maps. Additionally, we adjusted the estimated number of annual responses from 100 to 10 as we believe that it is unlikely that the BLM would receive more than 10 recommendations per year. This adjustment reduces the annual estimated burden hours associated with special area recommendations from 1,500 to 150.

The total burdens under this OMB Control Number are summarized below.

Title of Collection: Management and Protection of the National Petroleum Reserve in Alaska—Recommendations for Special Reserve Areas (43 CFR 2361.10(c)).

OMB Control Number: 1004-0221.

Form Numbers: None.

Type of Review: Revision of a currently approved collection.

Respondents/Affected Public: Participants within the oil and gas exploration program.

Respondent's Obligation: Voluntary.

Frequency of Collection: On occasion.

Estimated Completion Time per Response: 15 hours.

Number of Respondents: 10.

Annual Responses: 10.

Annual Burden Hours: 150.

Annual Burden Cost: None.

The BLM received one comment in response to the proposed rule that addressed the information collection aspects of the rule. The commentor was generally supportive of the changes introduced by the rule and noted that the changes will be substantially less burdensome on stakeholders than the efforts detailed in the 2024 Final Rule. A copy of this comment is included with the information collection request submitted to OMB in association with this final rule. If you want to comment on the information-collection requirements in this final rule, please send your comments and suggestions on this information-collection request within 30 days of publication of this final rule in the Federal Register to OMB by going to www.reginfo.gov. Click on the link, “Currently under Review—Open for Public Comments.”

National Environmental Policy Act (NEPA)

This final rule meets the criteria set forth at 43 CFR 46.210(i) for a Departmental categorical exclusion (CE). The CE covers policies, directives, regulations, and guidelines that are of an administrative, financial, legal, technical, or procedural nature or whose environmental effects are too broad, speculative, or conjectural to lend themselves to meaningful analysis and will later be subject to the NEPA process, either collectively or case-by-case. Further, the proposed rule does not implicate any of the extraordinary circumstances listed in 43 CFR 46.215. A copy of the final CE is available at www.regulations.gov/docket/BLM-2025-0002.

Public Comments Received

Comment: A commenter stated that the BLM's reliance on a CE is unexplained and unsupported. A commenter stated that the BLM's reliance on a CE to evade conducting further NEPA review is unlawful given the 2024 NPR-A Rule's rescission would eliminate measures intended to reduce environmental harm. A commenter expressed that a wholesale rollback of protections in the 23-million-acre NPR-A is exactly the kind of major Federal action that requires rigorous environmental review and public involvement and skipping an analysis would violate NEPA. The commenter asserted that rescinding the 2024 NPR-A Rule would have foreseeable, significant environmental effects by stripping away requirements to mitigate harm, likely leading to more habitat loss, pollution, and unrestrained development. The commenter said that the BLM acknowledged the proposed rule would enable additional opportunities for energy development through new energy infrastructure projects that would exacerbate environmental changes already burdening the North Slope. The commenter added that the BLM itself recognized in 1977 that promulgating rules to address management of resources in the NPR-A requires an EA at minimum. The commenter added that failing to conduct an NEPA analysis would marginalize Indigenous voices, because NEPA is one of the key processes through which they can make their concerns heard. An individual commenter said that applying the CE now is already presupposing the outcomes of the NEPA process.

BLM Response: The BLM disagrees with comments that environmental analysis under NEPA is required, or that extraordinary circumstances apply to this rulemaking. The BLM has determined that the CE set out at 43 CFR 46.210(i) (which did not exist at the time the BLM promulgated the rule in 1977) applies to this rulemaking. That provision excludes from NEPA analysis and review actions that are of an administrative, financial, legal, technical, or procedural nature; or whose environmental effects are too broad, speculative, or conjectural to lend themselves to meaningful analysis and will later be subject to the NEPA process, either collectively or case-by-case. That CE applies because, like the 2024 NPR-A Rule, this final rule is not self-executing, meaning that it does not itself make any substantive changes on the ground and will not restrict the BLM's discretion to take or authorize future on-the-ground actions. Instead, this final rule allows the BLM to exercise its discretion to appropriately consider future on-the-ground actions, consistent with the NPRPA, NEPA, and other laws, under future agency decisions. As such, the rule fits within the CE for rules, regulations, or policies to establish bureau-wide administrative procedures, program processes, or instructions. There are ample opportunities to comment on BLM's decisions regarding the management of the NPR-A as required by §§ 2361.10(c) and 2361.10(d)(1) of this final rule and as a part of future IAP and project-specific decision-making processes.

The 2024 NPR-A Rule did not include any specific mitigation requirements but rather acknowledged that any measures necessary to mitigate harm would be developed through future IAP processes or project-specific authorizations. Therefore, rescinding the 2024 NPR-A rule would not strip away requirements to mitigate harm as asserted by the commenter. Further, this final rule, by itself, does not enable additional opportunities for energy development because any new energy infrastructure projects would need to be considered through a future decision-making process. The environmental effects of future actions that may be undertaken consistent with the requirements of this final rule are too speculative or conjectural to be meaningfully evaluated at this time but will be subject to the appropriate level of NEPA review prior to making a decision, which also justifies the use of this CE.

That BLM prepared an EA in 1977 when it promulgated that final rule in no way limits its authority to utilize a categorical exclusion now. Indeed, the purpose of a categorical exclusion is to eliminate the need to prepare an environmental assessment. See 43 U.S.C. 4336(b)(2)(“an agency shall prepare an environmental assessment. . . . . unless the agency finds that the proposed agency action is excluded pursuant to one of the agency's categorical exclusions . . .”).

Further, the 2024 NPR-A Rule explicitly relied on the same CE the Department seeks to rely on now. As background, the BLM completed an extensive NEPA analysis to support the 2020 IAP ROD—specifically a Final EIS issued by the agency in 2020 that evaluated a range of alternatives for managing oil and gas activities and resources in the NPR-A (NPR-A IAP Final EIS, available at https://eplanning.blm.gov/eplanning-ui/project/117408/570). That same NPR-A IAP Final EIS was later used to support the 2022 IAP ROD and was referenced as relevant to the 2024 NPR-A Rule in that rule's preamble. However, the preamble for the 2024 NPR-A rule explicitly stated that the EIS was unnecessary because the rule qualified for a CE. In as much as the NPR-A IAP Final EIS was relevant to the 2024 rule, it is relevant here. However, just like the 2024 NPR-A IAP, this final rule does not alter any current on-the-ground management, and it meets the criteria set forth at 43 CFR 46.210(i) for a Departmental categorical exclusion in that this rule is “of an administrative, financial, legal, technical, or procedural nature;” and, as described above, the environmental effects of future actions that may be undertaken consistent with the requirements of this final rule are too speculative or conjectural to be meaningfully evaluated at this time but will be subject to the appropriate level of NEPA review prior to making a decision. Additionally, the final rule does not involve any of the extraordinary circumstances listed in 43 CFR 46.215 that would preclude the application of the categorical exclusion. As such, the BLM has complied with NEPA by relying on this categorical exclusion.

Comments: A commenter stated that the BLM failed to adequately consider alternatives to full rescission of the 2024 NPR-A Rule. The commenter explained that NEPA requires agencies to “study, develop, and describe technically and economically feasible alternatives” to a proposed action, and that the alternatives analysis is the “linchpin” of environmental analysis.

BLM Response: The alternative consideration for the regulatory process is not the same as NEPA alternatives. In Federal rulemaking, alternatives are considered to improve regulatory efficiency and reduce burdens, focusing on economic and practical impacts. Under NEPA, alternatives are analyzed to assess environmental consequences and ensure informed decision-making, with a required “no action” option and emphasis on environmental protection.

As stated in the NPRM RFA section, BLM appropriately considered two alternatives to the NPR-A proposed rule to assess whether benefits could be further increased for small entities. First, the BLM considered a partial rescission of 2024 requirements that would meet BLM's statutory objectives and provide more benefits to small entities. Such a rescission was not selected because it would not be authorized under BLM's authority and is inconsistent with the national energy policy. Second, the BLM considered delaying the repeal of requirements over time for affected small entities. This option was not selected because this would unnecessarily delay the benefits available for small entities, does not achieve BLM's objectives, is inconsistent with the national energy policy, and would not be authorized under BLM's authority.

Comment: A commenter expressed that the BLM's failure to explain or provide support for its use of a categorical exclusion under the National Environmental Policy Act (NEPA) violates the APA, and it is not sufficient to document the applicability of the CE concurrently with the 2024 NPR-A Rule because it provides no opportunity for public comment.

BLM Response: The BLM has determined that the CE set out at 43 CFR 46.210(i) is appropriate for this rulemaking activity as it was for the 2024 NPR-A rule. The BLM's CE authority precludes the need for more robust environmental analysis and review under NEPA for actions that are of an administrative, financial, legal, technical, or procedural nature; or whose environmental effects are too broad, speculative, or conjectural to lend themselves to meaningful analysis and will later be subject to the NEPA process, either collectively or case-by-case. That CE applies because the final rule realigns the regulatory framework to appropriately administer the BLM's future intended focus of oil and gas exploration and development, but is not self-executing, meaning that it does not itself make any substantive changes on the ground and will not restrict the BLM's discretion to take or authorize future on-the-ground actions.

The final rule allows for the BLM's discretion to appropriately consider future on-the-ground actions, consistent with the NPRPA and other laws, under future agency decisions. As such, the rule fits within the CE for rules, regulations, or policies to establish bureau-wide administrative procedures, program processes, or instructions. This final rule does not authorize any project or other on-the-ground activity and therefore will have no significant individual or cumulative effects on the quality of the human environment. The environmental effects of future actions undertaken to implement this rule are too speculative or conjectural to be meaningfully evaluated at this time but will be subject to the appropriate level of NEPA review prior to making a decision. The BLM has also determined that none of the extraordinary circumstances identified at 43 CFR 46.215 apply to this rulemaking.

Comment: A commenter stated that the BLM failed to adequately consider alternatives to full rescission of the 2024 NPR-A Rule as required by NEPA. The commenter stated that the BLM dismissed two alternatives without adequate explanation: a partial rescission and a delayed implementation approach. The commenter said that the BLM failed to explain why less than full rescission “would not be authorized under BLM's authority,” adding that the NPRPA expressly directs the BLM to protect environmental, fish and wildlife, and historical or scenic values in the NPR-A. The commenter recommended that the BLM should at minimum consider an alternative that removes only § 2361.50, the only provision the BLM identified as inconsistent with its legal duties. A commenter stated that if the BLM decides to move forward, it must consider alternatives to full rescission that retain core protections for significant resource values and special areas while maintaining standards for resource management in the NPR-A.

BLM Response: The alternative consideration for the regulatory process is not the same as NEPA alternatives analysis. Under NEPA, alternatives are analyzed to assess environmental consequences and ensure informed decision-making, with a required “no action” option. In Federal rulemaking, Executive Order 12866 requires consideration of alternatives to improve regulatory efficiency and reduce burdens, with a focus on economic and practical impacts. Further, the RFA requires consideration of alternatives that may reduce the potential for significant impacts on small entities (i.e., small businesses, small organizations, and small governmental jurisdictions). With regard to the RFA, the BLM determined that the final rule will not have a significant economic impact on a substantial number of small entities because it does not directly regulate businesses, small governments, or NGOs and in turn, does not regulate small entities, therefore the BLM certified the rule pursuant to Section 605(b) of the RFA and, as a result, the Bureau is not required to complete any further alternatives analysis as part of a Final Regulatory Flexibility Analysis. As discussed earlier, the 2024 NPR-A rule created a regulatory framework that is unlawful under the NPRPA (beyond the concerning provisions in § 2361.50). The 2024 rule includes several provisions that individually and collectively restrict the leasing, exploration, development, and production of oil and gas resources within the NPR-A in a manner that is contrary to the congressional direction in the NPRPA to develop lands within the NPR-A, including special areas, as part of an expeditious oil and gas leasing program. The presumption against oil and gas leasing and new infrastructure in § 2361.50 is only one example. Other provisions in the rule created procedural hurdles for the BLM that reduced management flexibility and hindered the BLM's ability to issue authorizations, including authorizations for required mitigation measures (see discussion of 43 CFR 2361.40(g)(6) earlier), which would potentially hinder the BLM's ability to adapt to changing conditions in the NRP-A. As a result, the BLM could not just consider just eliminating § 2361.50, but must address the 2024 rule as a whole to bring it into alignment with the statutory authority provided in the NPRPA. Finally, rescinding the 2024 rule as a while and restoring the status quo ante, is consistent with this administration's National energy strategy, and will increase certainty for users in the NRP-A.

The BLM has determined that the CE set out at 43 CFR 46.210(i) applies to this rulemaking. That provision excludes from NEPA analysis and review actions that are of an administrative, financial, legal, technical, or procedural nature; or whose environmental effects are too broad, speculative, or conjectural to lend themselves to meaningful analysis and will later be subject to the NEPA process, either collectively or case-by-case. That CE applies because while the final rule returns the NPR-A to the intended focus of oil and gas exploration and development, it is not self-executing, meaning that it does not itself make any substantive changes on the ground and will not restrict the BLM's discretion to take or authorize future on-the-ground actions. The BLM has also determined that none of the extraordinary circumstances identified at 43 CFR 46.215 apply to this rulemaking. As such, the BLM has completed the required CE as part of this final rule. Alternatives analysis is not a requirement for activities that are covered under a CE.

This final rule does not involve or authorize any project or on-the-ground activity and therefore has no significant individual or cumulative effects on the quality of the human environment. The final rule maintains the BLM's discretion to consider future on-the-ground actions—through the IAP process or project-specific decision making to analyze and account for the impacts to surface values and subsistence activities—consistent with the resource protection provisions of the NPRPA. Therefore, as future agency actions warrant it, under NEPA or other applicable law, the BLM will perform the appropriate alternative development and analysis prior to agency decision-making.

Endangered Species Act

Public Comments Received

Comment: Commenters stated that the BLM must comply with its substantive and procedural obligations under the ESA. Commenters said that several ESA-listed species inhabit the NPR-A and its nearshore waters, including whales, bearded and ringed seals, spectacled and Steller's eiders, and polar bears. The commenters added that section 7(a)(2) of the ESA mandates Federal agencies to ensure their actions are not likely to jeopardize threatened or endangered species or destroy critical habitat, and that the threshold for triggering consultation is low. An individual commenter stated that the proposal to rescind protections must be evaluated in light of other regulatory rollbacks, including the narrowing of “incidental take” protections under the Migratory Bird Treaty Act, and proposals to eliminate the EPA's Endangerment Finding or the definition of “foreseeable future.”

BLM Response: The final rule is not self-executing, meaning that it does not itself make substantive changes on the ground.

Further, the BLM evaluated whether ESA section 7 consultation with the U.S. Fish and Wildlife Service or the National Marine Fisheries Service is required for the final rule. The BLM determined that such consultation is not required because the final rule will have no effect on federally listed, candidate, or proposed threatened or endangered species. Nothing in the 2024 NPR-A Rule recission changes the agencies' obligation to consult under section 7(a)(2) of the ESA on Federal actions in the NPR-A, including oil and gas activities and the IAP. Management decisions, including which stipulations and required operating procedures are necessary to ensure proper protection of surface resources and consideration of special areas, are made through the IAP process and associated ESA section 7 analysis.

Consultation With Indian Tribes (E.O. 13175 and Departmental Policy)

Public Comments Received

Comment: Commenters stated that if the BLM decides to move forward with rescinding the 2024 NPR-A Rule, it should engage in a meaningful Tribal consultation process with all affected Tribes and communities.

BLM Response: On May 14, 2025, invitation to consult letters were mailed to 33 Alaska native organizations in the region, including Alaska Native Tribes and ANCSA Corporations. 26 of these letters were also sent via email on May 14, 2025, to those entities for whom we have email addresses. BLM Alaska scheduled and attended all requested consultation meetings, including: May 21, 2025—North Slope Borough; May 27, 2025—Utqiagvik Trilateral (City of Utqiagvik, Ukpeaġvik Iñupiat Corporation, Native Village of Barrow); May 29, 2025—Kuukpik Corporation; June 30, 2025—Arctic Slope Regional Corporation; and July 9, 2025—Iñupiat Community of the Arctic Slope.

Regulatory Planning and Review

Review Under Executive Order (E.O.) 12866

Section 6(a) of E.O. 12866 requires agencies to submit “significant regulatory actions” to OIRA for review. OIRA determined that this regulatory action constitutes a “significant regulatory action” under section 3(f) of E.O. 12866. Accordingly, this action was submitted to OIRA for review under E.O. 12866.

The BLM is required to conduct an economic analysis in accordance with section 6(a)(3)(B) of E.O. 12866. A copy of the economic analysis for the final rule is available at www.regulations.gov/docket/BLM-2025-0002. A discussion of alternatives considered can be found in the section entitled Regulatory Flexibility Act above.

Public Comments Received

Comment: A legal services organization stated that the proposed rule restores the balance between environmental concerns and the need to develop sources of oil and gas and is in accordance with the authority of the Secretary of the Interior established by the NPRPA. Additionally, the commenter said that the proposed rule does not violate the major questions doctrine. The commenter said that the NPRPA designates certain areas within the NPR-A for the exploration and possible production of oil and gas, which demonstrates Congress' intent for the future use of the region. The commenter said that the major questions doctrine does not apply because implementation of the proposed rule does not trigger “vast economic and political significance.” The commenter said that one of the ways the Court defines economic significance is if the rule lays “claim to extravagant statutory power over the national economy.” The commenter said that oil and gas exploration in Alaska serves an important role in the State and national economy, but the proposed rule does not impose an extensive regulatory regime over the national economy.

BLM Response: The BLM agrees that this final rule does not implicate the major questions doctrine. The NPRPA is a dominant-use statute that directs the BLM to manage the NPR-A primarily for oil and gas leasing, exploration, development, and production, and provides the BLM with discretion to determine the appropriate framework for protecting surface resources throughout the NPR-A. Further, the maximum protection of significant surface values within special areas, while required by the NPRPA, only applies to the extent consistent with the exploration and production requirements of the Act. This rule correctly reflects this statutory mandate. More detail on the statutory history of the NPR-A is provided in Section II Background of this preamble.

Review Under E.O.s 14154, 14153, and 14192

DOI has examined this final rulemaking and has determined that it is consistent with the policies and directives outlined in E.O. 14154 Unleashing American Energy, E.O. 14192 Unleashing Prosperity Through Deregulation, and E.O. 14153 Unleashing Alaska's Extraordinary Resource Potential. This final rule is an E.O. 14192 deregulatory action with no associated quantified cost savings.

Actions Concerning Regulations That Significantly Affect Energy Supply, Distribution, or Use (E.O. 13211)

Under E.O. 13211, agencies are required to prepare and submit a statement of energy effects to the Administrator of the Office of Information and Regulatory Affairs, Office of Management and Budget, for those matters identified as significant energy actions. This statement is to include a detailed statement of any adverse effects on energy supply, distribution, or use (including a shortfall in supply, price increases, and increase use of foreign supplies) should the proposal be implemented and reasonable alternatives to the action with adverse energy effects and the expected effects of such alternatives on energy supply, distribution, and use.

Section 4(b) of E.O. 13211 defines a “significant energy action” as any action by an agency (normally published in the Federal Register) that promulgates or is expected to lead to the promulgation of a final rule or regulation, including notices of inquiry, advance notices of proposed rulemaking, and notices of proposed rulemaking that is a significant regulatory action under E.O. 12866 or any successor order, and is likely to have a significant adverse effect on the supply, distribution, or use of energy; or that is designated by OIRA as a significant energy action. This final rule will not have a significant adverse effect on the Nation's energy supply.

Public Comments Received

Comment: An individual commenter said that under E.O. 13211, the BLM is required to make a detailed statement of any adverse effects on energy supply, distribution or use should the proposed rule be implemented. The commenter said that the BLM concluded that the proposed rule, if finalized as proposed, is expected to not have a significant adverse effect on the Nation's energy supply. However, the commenter said that, if the BLM proceeds as planned, the energy “unleashed” should significantly increase the supply, otherwise the inflicted damage will not be worthwhile.

BLM Response: E.O. 13211 states that agencies are required to prepare and submit a statement of energy effects with a detailed statement of any adverse effects on energy supply, distribution, or use (including a shortfall in supply, price increases, and increase use of foreign supplies) should the proposal be implemented and reasonable alternatives to the action with adverse energy effects and the expected effects of such alternatives on energy supply, distribution, and use. As such, a statement is not required if the anticipated effects are not likely to have a significant adverse effect on the supply, distribution, or use of energy—as is the case with this rulemaking effort.

List of Subjects in 43 CFR Part 2360

Alaska, Oil and gas activity, Protection of surface resources, Special areas, Tribes.

Leslie Beyer,
Assistant Secretary, Land and Minerals Management.

For the reasons set out in the preamble, the Bureau of Land Management revises 43 CFR part 2360 to read as follows:

PART 2360—NATIONAL PETROLEUM RESERVE IN ALASKA

Subpart 2361—Management and Protection of the National Petroleum Reserve in Alaska
Sec.
2361.1 Purpose.
2361.2 Objectives.
2361.3 Authority.
2361.4 Responsibility.
2361.5 Definitions.
2361.6 [Reserved]
2361.7 Effect of law.
2361.10 Protection of the environment.
2361.20 Use authorizations.
2361.30 Unauthorized use and occupancy.
Subpart 2362 [Reserved]

Authority: 42 U.S.C. 6501 et seq. and 43 U.S.C. 1701 et seq.

Subpart 2361—Management and Protection of the National Petroleum Reserve in Alaska

§ 2361.1 Purpose.

The purpose of the regulations in this subpart is to provide procedures for the protection and control of environmental, fish and wildlife, and historical or scenic values in the National Petroleum Reserve in Alaska pursuant to the provisions of the Naval Petroleum Reserves Production Act of 1976 as amended (90 Stat. 303; 42 U.S.C. 6501 et seq.), Alaska National Interest Lands Conservation Act (94 Stat. 2371, 16 U.S.C. 3101 et seq.), and other applicable authorities.

§ 2361.2 Objectives.

The objective of this subpart is to provide for the protection of the environmental, fish and wildlife, and historical or scenic values of the Reserve so that activities which are or might be detrimental to such values will be carefully controlled to the extent consistent with the requirements of the Act for the exploration and production of oil and gas resources in the Reserve.

§ 2361.3 Authority.

The Naval Petroleum Reserve Production Act of 1976 (90 Stat. 303; 42 U.S.C. 6501, et seq.), as amended by the Department of the Interior Appropriations Act, Fiscal Year 1981 (Pub. L. 96-514), is the primary statutory authority for this subpart. Other applicable authorities include the Alaska National Interest Lands Conservation Act (16 U.S.C. 3101 et seq.) and the Federal Land Policy and Management Act (43 U.S.C. 1701 et seq.), exclusive of sections 202 and 603, which do not apply pursuant to 42 U.S.C. 6506a(c).

§ 2361.4 Responsibility.

Consistent with the statutory requirements to conduct an expeditious program of oil and gas leasing, the Bureau of Land Management (BLM) is responsible for the management of the Reserve, the protection of surface values from environmental degradation, and to prepare rules and regulations necessary to carry out management and protection duties.

§ 2361.5 Definitions.

As used in this subpart, the following terms have the following meanings:

(a) Act means the Naval Petroleum Reserves Production Act of 1976, as amended (90 Stat. 303; 42 U.S.C. 6501, et seq.).

(b) Authorized officer means any employee of the BLM who has been delegated the authority to perform the duties of this subpart.

(c) Exploration means activities conducted on the Reserve for the purpose of evaluating petroleum resources which include crude oil, gases of all kinds (natural gas, hydrogen, carbon dioxide, helium, and any others), natural gasoline, and related hydrocarbons (tar sands, asphalt, propane butane, etc.), oil shale and the products of such resources.

(d) Reserve means those lands within the National Petroleum Reserve in Alaska (prior to June 1, 1977, designated Naval Petroleum Reserve No. 4) which was established by Executive order of the President, dated February 27, 1923, except for tract Numbered 1 as described in Public Land Order 2344 (the Naval Arctic Research Laboratory—surface estate only) dated April 24, 1961.

(e) Secretary means the Secretary of the Interior.

(f) Special areas means areas within the Reserve identified by the Secretary of the Interior as having significant subsistence, recreational, fish and wildlife, or historical or scenic value and, therefore, warranting maximum protection of such values to the extent consistent with the requirements of the Act for the exploration of the Reserve.

(g) Use authorization means a written approval of a request for use of land or resources.

§ 2361.6 [Reserved]

§ 2361.7 Effect of law.

(a) Subject to valid existing rights, all lands within the exterior boundaries of the Reserve are reserved and withdrawn from all forms of entry and disposition under the public land laws, including the mining and mineral leasing laws, and all other Acts.

(b) Notwithstanding the provisions of paragraph (a) of this section, the Secretary is authorized to:

(1) Make dispositions of mineral materials pursuant to the Act of July 31, 1947 (61 Stat. 681), as amended (30 U.S.C. 601), for appropriate use by Alaska Natives.

(2) Make such dispositions of mineral materials and grant such rights-of-way, licenses, and permits as may be necessary to carry out his responsibilities under the Act.

(3) Convey the surface of lands properly selected on or before December 18, 1975, by Native village corporations pursuant to the Alaska Native Claims Settlement Act, as amended (43 U.S.C. 1601, et seq.).

(c) All other provisions of law heretofore enacted and actions heretofore taken reserving such lands as a Reserve will remain in full force and effect to the extent not inconsistent with the Act.

(d) To the extent not inconsistent with the Act, all other public land laws are applicable.

§ 2361.10 Protection of the environment.

(a) The authorized officer will take such action, including monitoring, as he deems necessary to mitigate or avoid unnecessary surface damage and to minimize ecological disturbance throughout the Reserve to the extent consistent with the requirements of the Act for the exploration of the Reserve.

(b) Maximum protection measures will be taken on all actions within the Utukok River Uplands, Colville River, and Teshekpuk Lake special areas, and any other special areas identified by the Secretary as having significant subsistence, recreational, fish and wildlife, or historical or scenic value. The boundaries of these areas and any other special areas identified by the Secretary will be identified on maps and be available for public inspection in the Alaska State Office. In addition, the legal description of the three special areas designated in this paragraph (b) and any new areas identified hereafter will be published in the Federal Register and appropriate local newspapers. Maximum protection may include, but is not limited to, requirements for:

(1) Rescheduling activities and use of alternative routes;

(2) Types of vehicles and loadings;

(3) Limiting types of aircraft in combination with minimum flight altitudes and distances from identified places; and

(4) Special fuel handling procedures.

(c) Recommendations for additional special areas may be submitted at any time to the authorized officer. Each recommendation will contain a description of the values which make the area special, the size and location of the area on appropriate U.S. Geological Survey (USGS) quadrangle maps, and any other pertinent information. The authorized officer will seek comments on the recommendation(s) from interested public agencies, groups, and persons. These comments will be submitted along with his recommendation to the Secretary. Pursuant to section 104(b) of the Act, the Secretary may designate that area(s) which he determines to have special values requiring maximum protection. Any such designated area will be identified in accordance with the provision of paragraph (b) of this section.

(d)(1) To the extent consistent with the requirements of the Act and after consultation with appropriate Federal, State, and local agencies, Indian Tribes, and Alaska Native Claims Settlement Act of 1971 (ANCSA) Corporations, the authorized officer may limit, restrict, or prohibit the use of and access to lands within the Reserve, including special areas. On proper notice as determined by the authorized officer, such actions may be taken to protect fish and wildlife breeding, nesting, spawning, lambing of calving activity, major migrations of fish and wildlife, and other environmental, scenic, or historic values.

(2) The consultation requirement in paragraph (d)(1) of this section is not required when the authorized officer determines that emergency measures are required.

(e) No site, structure, object, or other values of historical archaeological, cultural, or paleontological character, including but not limited to historic and prehistoric remains, fossils, and artifacts, will be injured, altered, destroyed, or collected without authorization under the appropriate Federal permit and without compliance with applicable Federal law, including but not limited to, the Archaeological Resources Protection Act of 1979, 16 U.S.C. 470aa-470mm, Paleontological Resources Preservation Act of 2009, 16 U.S.C. 470aaa-470aaa-11, Native American Graves Protection and Repatriation Act of 1990, 25 U.S.C. 3001-3013, National Historic Preservation Act of 1966, 54 U.S.C. 300101-307108.

§ 2361.20 Use authorizations.

(a) Except for petroleum exploration which has been authorized by the Act, use authorizations must be obtained from the authorized officer prior to any use within the Reserve. Only those uses which are consistent with the purposes and objectives of the Act will be authorized.

(b) Except as may be limited, restricted, or prohibited by the authorized officer pursuant to § 2361.10 or otherwise, use authorizations are not required for:

(1) Subsistence uses (e.g., hunting, fishing, and berry picking); and

(2) Recreational uses (e.g., hunting, fishing, backpacking, and wildlife observation).

(c) Applications for use authorizations must be filed in accordance with applicable regulations in this subpart. In the absence of such regulation, the authorized officer may make such dispositions of mineral materials and grant such rights-of-way, licenses, and permits as may be necessary to carry out his responsibilities under the Act.

(d) In addition to other statutory or regulatory requirements, approval of applications for use authorizations will be subject to such terms and conditions which the authorized officer determines to be necessary to protect the environmental, fish and wildlife, and historical or scenic values of the Reserve.

§ 2361.30 Unauthorized use and occupancy.

Any person who violates or fails to comply with regulations of this subpart is subject to prosecution, including trespass and liability for damages, pursuant to the appropriate laws.

Subpart 2362 [Reserved]

[FR Doc. 2025-19982 Filed 11-14-25; 8:45 am]

BILLING CODE 4331-27-Ps